DEPARTMENT OF AGRICULTURE

Agricultural Marketing Service

7 CFR Part 1205

[Doc. #AMS-CN-11-0091]

Cotton Board Rules and Regulations: Adjusting Supplemental Assessment on Imports (2011 Amendments)

AGENCY: Agricultural Marketing Service, USDA.

ACTION: Proposed rule.

SUMMARY: The Agricultural Marketing Service (AMS) is proposing to amend the Cotton Board Rules and Regulations by increasing the value assigned to imported cotton for calculating supplemental assessments collected for use by the Cotton Research and Promotion Program. An amendment is required to adjust the assessments collected on imported cotton and the cotton content of imported products to be the same as those paid on domestically produced cotton. In addition, AMS proposes to change the Harmonized Tariff Schedule (HTS) statistical reporting numbers that were amended since the last assessment adjustment.

DATES: Comments must be received on or before July 12, 2012.

ADDRESSES: Interested persons are invited to submit written comments concerning this proposed rule to Shethir M. Riva, Chief, Research and Promotion Staff, Cotton and Tobacco Programs, AMS, USDA, 100 Riverside Parkway, Suite 101, Fredericksburg, Virginia 22406. Comments should be submitted in triplicate. Comments may also be submitted electronically through www.regulations.gov. All comments received will be made available for public inspection at Cotton and Tobacco Programs, AMS, USDA, 100 Riverside Parkway, Suite 101, Fredericksburg, Virginia 22406. A copy of this notice may be found at: www.regulations.gov.

FOR FURTHER INFORMATION CONTACT: Shethir M. Riva, Chief, Research and Promotion Staff, Cotton and Tobacco Programs, AMS, USDA, 100 Riverside Parkway, Suite 101, Fredericksburg, Virginia 22406, telephone (540) 361-2726, facsimile (540) 361-1199, or email at Shethir.Riva@ams.usda.gov.

SUPPLEMENTARY INFORMATION:

Executive Order 12866

The Office of Management and Budget has waived the review process required by Executive Order 12866 for this action.

Executive Order 12988

This proposed rule has been reviewed under Executive Order 12988, Civil Justice Reform. It is not intended to have retroactive effect. This proposed rule would not preempt any state or local laws, regulations, or policies, unless they present an irreconcilable conflict with this rule.

The Cotton Research and Promotion Act (7 U.S.C. 2101-2118) (Act) provides that administrative proceedings must be exhausted before parties may file suit in court. Under section 12 of the Act, any person subject to an order may file with the Secretary of Agriculture (Secretary) a petition stating that the order, any provision of the plan, or any obligation imposed in connection with the order is not in accordance with law and requesting a modification of the order or to be exempted therefrom. Such person is afforded the opportunity for a hearing on the petition. After the hearing, the Secretary would rule on the petition. The Act provides that the District Court of the United States in any district in which the person is an inhabitant, or has his principal place of business, has jurisdiction to review the Secretary's ruling, provided a complaint is filed within 20 days from the date of the entry of ruling.

Background

Amendments to the Act were enacted by Congress under Subtitle G of Title XIX of the Food, Agriculture, Conservation, and Trade Act of 1990 (Pub. L. 101-624, 104 stat. 3909, November 28, 1990). These amendments contained two provisions that authorized changes in the funding procedures for the Cotton Research and Promotion Program.

These provisions are: (1) The assessment of imported cotton and cotton products; and (2) termination of the right of cotton producers to demand a refund of assessments.

As amended, the Cotton Research and Promotion Order (7 CFR part 1205) (Order) was approved by producers and importers voting in a referendum held July 17-26, 1991, and the amended Order was published in the Federal Register on December 10, 1991, (56 FR 64470). A proposed rule implementing the amended Order was published in the Federal Register on December 17, 1991, (56 FR 65450). Implementing rules were published on July 1 and 2, 1992, (57 FR 29181) and (57 FR 29431), respectively.

This proposed rule would increase the value assigned to imported cotton in the Cotton Board Rules and Regulations (7 CFR 1205.510(b)(2)). The total value is determined by a two-part assessment. The first part of the assessment is levied on the weight of cotton produced or imported at a rate of $1 per bale of cotton, which is equivalent to 500 pounds, or $1 per 226.8 kilograms of cotton. The second value is used to calculate the supplemental assessments on imported cotton and the cotton content of imported products. Supplemental assessments are levied at a rate of five-tenths of one percent of the value of domestically produced cotton, imported cotton, and the cotton content of imported products. The supplemental assessment is combined with the per bale equivalent to determine the total value and assessment of the imported cotton or cotton-containing products.

Section 1205.510(b)(2) of the Cotton Research and Promotion Rules and Regulations provides for assigning the calendar year weighted average price received by U.S. farmers for Upland cotton to represent the value of imported cotton. This is so that the assessment on domestically produced cotton and the assessment on imported cotton and the cotton content of imported products is the same. The source for the average price statistic is Agricultural Prices, a publication of the National Agricultural Statistics Service (NASS) of the Department of Agriculture. Use of the weighted average price figure in the calculation of supplemental assessments on imported cotton and the cotton content of imported products will yield an assessment that is the same as assessments paid on domestically produced cotton.

The current value of imported cotton as published in the Federal Register (76 FR 54078) for the purpose of calculating assessments on imported cotton is $0.012665 per kilogram. Using the Average Weighted Priced received by U.S. farmers for Upland cotton for the calendar year 2011, the new value of imported cotton is $0.014109 per kilogram.

An example of the complete assessment formula and how the figures are obtained is as follows:

One bale is equal to 500 pounds.

One kilogram equals 2.2046 pounds.

One pound equals 0.453597 kilograms.

One Dollar Per Bale Assessment Converted to Kilograms

A 500-pound bale equals 226.8 kg. (500 × .453597).

$1 per bale assessment equals $0.002000 per pound or $0.2000 cents per pound (1/500) or $0.004409 per kg or $0.4409 cents per kg. (1/226.8).

Supplemental Assessment of 5/10 of One Percent of the Value of the Cotton Converted to Kilograms

The 2011 calendar year weighted average price received by producers for Upland cotton is $0.880 per pound or $1.940 per kg. (0.880 × 2.2046).

Five tenths of one percent of the average price in kg. equals $0.009700 per kg. (1.940 × .005).

Total Assessment

The total assessment per kilogram of raw cotton is obtained by adding the $1 per bale equivalent assessment of $0.004409 per kg. and the supplemental assessment $0.009700 per kg. which equals $0.014109 per kg.

The current assessment on imported cotton is $0.012665 per kilogram of imported cotton. The proposed assessment is $0.014109, an increase of $0.001444 per kilogram. This increase reflects the increase in the Average Weighted Price of Upland Cotton Received by U.S. Farmers during the period January through December 2011.

Since the value of cotton is the basis of the supplemental assessment calculation and the figures shown in the right hand column of the Import Assessment Table in section 1205.510(b)(3) are a result of such a calculation, the figures in this table have been revised. These figures indicate the total assessment per kilogram due for each HTS numbers subject to assessment.

AMS also compared the current import assessment table with the U.S. International Trade Commission's (ITC) 2012 HTS and information from U.S. Customs and Border Protection and identified HTS statistical reporting numbers that have been removed.

A 30-day comment period is provided to comment on the changes to the Cotton Board Rules and Regulations proposed herein. This period is deemed appropriate because this proposal would increase the assessments paid by importers under the Cotton Research and Promotion Order. An amendment is required to adjust the assessments collected on imported cotton and the cotton content of imported products to be the same as those paid on domestically produced cotton. Accordingly, the change proposed in this rule, if adopted, should be implemented as soon as possible.

Regulatory Flexibility Act and Paperwork Reduction Act

In accordance with the Regulatory Flexibility Act (RFA) [5 U.S.C. 601-612], AMS has examined the economic impact of this rule on small entities. The purpose of the RFA is to fit regulatory actions to the scale of businesses subject to such action so that small businesses will not be unduly or disproportionately burdened. The Small Business Administration defines, in 13 CFR part 121, small agricultural producers as those having annual receipts of no more than $750,000 and small agricultural service firms (importers) as having receipts of no more than $7,000,000. In 2011, an estimated 17,000 importers are subject to the rules and regulations issued pursuant to the Cotton Research and Promotion Order. Most are considered small entities as defined by the Small Business Administration.

This proposed rule would only affect importers of cotton and cotton-containing products and would raise the assessments paid by the importers under the Cotton Research and Promotion Order. The current assessment on imported cotton is $0.012665 per kilogram of imported cotton. The proposed assessment is $0.014109, which was calculated based on the 12-month average of monthly weighted average prices received by U.S. cotton farmers. Section 1205.510, “Levy of assessments”, provides “the rate of the supplemental assessment on imported cotton will be the same as that levied on cotton produced within the United States.” In addition, section 1205.510 provides that the 12-month average of monthly weighted average prices received by U.S. farmers will be used as the value of imported cotton for the purpose of levying the supplemental assessment on imported cotton.

Under the Cotton Research and Promotion Program, assessments are used by the Cotton Board to finance research and promotion programs designed to increase consumer demand for Upland cotton in the United States and international markets. In 2010 (the last audited year), producer assessments totaled $46.5 million and importer assessments totaled $38.1 million. According to the Cotton Board, should the volume of cotton products imported into the U.S. remain at the same level in 2011, one could expect the increased assessment to generate approximately $8,309,158 in additional revenue.

Importers with line-items appearing on U.S. Customs and Border Protection documentation with value of the cotton contained therein results of an assessment of two dollars ($2.00) or less will not be subject to assessments. In addition, imported cotton and products may be exempt from assessment if the cotton content of products is U.S. produced, cotton other than Upland, or imported products that are eligible to be labeled as 100 percent organic under the National Organic Program (7 CFR part 205) and who is not a split operation.

There are no Federal rules that duplicate, overlap, or conflict with this rule.

In compliance with Office of Management and Budget (OMB) regulations (5 CFR part 1320) which implement the Paperwork Reduction Act (PRA) (44 U.S.C. Chapter 35) the information collection requirements contained in the regulation to be amended have been previously approved by OMB and were assigned control number 0581-0093. This rule does not result in a change to the information collection and recordkeeping requirements previously approved.

List of Subjects in 7 CFR Part 1205

Advertising, Agricultural research, Cotton, Marketing agreements, Reporting and Recordkeeping requirements.

For the reasons set forth in the preamble 7 CFR Part 1205 is proposed to be amended as follows:

PART 1205—COTTON RESEARCH AND PROMOTION

1. The authority citation for Part 1205 continues to read as follows:

Authority: 7 U.S.C. 2101-2118.

2. In § 1205.510, paragraph (b)(2) and the table in paragraph (b)(3)(ii) are revised to read as follows:

§ 1205.510 Levy of assessments.

* * * * *

(b) * * *

(2) The 12-month average of monthly weighted average prices received by U.S. farmers will be calculated annually. Such weighted average will be used as the value of imported cotton for the purpose of levying the supplemental assessment on imported cotton and will be expressed in kilograms. The value of imported cotton for the purpose of levying this supplemental assessment is $1.4109 cents per kilogram.

(3) * * *

(ii) * * *

Import Assessment Table
[Raw cotton fiber]
HTS No. | Conv. factor. | Cents/kg.
5007106010 | 0.2713 | 0.3828
5007106020 | 0.2713 | 0.3828
5007906010 | 0.2713 | 0.3828
5007906020 | 0.2713 | 0.3828
5112904000 | 0.1085 | 0.1531
5112905000 | 0.1085 | 0.1531
5112909010 | 0.1085 | 0.1531
5112909090 | 0.1085 | 0.1531
5201000500 | 0 | 1.4109
5201001200 | 0 | 1.4109
5201001400 | 0 | 1.4109
5201001800 | 0 | 1.4109
5201002200 | 0 | 1.4109
5201002400 | 0 | 1.4109
5201002800 | 0 | 1.4109
5201003400 | 0 | 1.4109
5201003800 | 0 | 1.4109
5204110000 | 1.0526 | 1.4852
5204190000 | 0.6316 | 0.8911
5204200000 | 1.0526 | 1.4852
5205111000 | 1.0000 | 1.4109
5205112000 | 1.0000 | 1.4109
5205121000 | 1.0000 | 1.4109
5205122000 | 1.0000 | 1.4109
5205131000 | 1.0000 | 1.4109
5205132000 | 1.0000 | 1.4109
5205141000 | 1.0000 | 1.4109
5205142000 | 1.0000 | 1.4109
5205151000 | 1.0000 | 1.4109
5205152000 | 1.0000 | 1.4109
5205210020 | 1.0440 | 1.4729
5205210090 | 1.0440 | 1.4729
5205220020 | 1.0440 | 1.4729
5205220090 | 1.0440 | 1.4729
5205230020 | 1.0440 | 1.4729
5205230090 | 1.0440 | 1.4729
5205240020 | 1.0440 | 1.4729
5205240090 | 1.0440 | 1.4729
5205260020 | 1.0440 | 1.4729
5205260090 | 1.0440 | 1.4729
5205270020 | 1.0440 | 1.4729
5205270090 | 1.0440 | 1.4729
5205280020 | 1.0440 | 1.4729
5205280090 | 1.0440 | 1.4729
5205310000 | 1.0000 | 1.4109
5205320000 | 1.0000 | 1.4109
5205330000 | 1.0000 | 1.4109
5205340000 | 1.0000 | 1.4109
5205350000 | 1.0000 | 1.4109
5205410020 | 1.0440 | 1.4729
5205410090 | 1.0440 | 1.4729
5205420021 | 1.0440 | 1.4729
5205420029 | 1.0440 | 1.4729
5205420090 | 1.0440 | 1.4729
5205430021 | 1.0440 | 1.4729
5205430029 | 1.0440 | 1.4729
5205430090 | 1.0440 | 1.4729
5205440021 | 1.0440 | 1.4729
5205440029 | 1.0440 | 1.4729
5205440090 | 1.0440 | 1.4729
5205460021 | 1.0440 | 1.4729
5205460029 | 1.0440 | 1.4729
5205460090 | 1.0440 | 1.4729
5205470021 | 1.0440 | 1.4729
5205470029 | 1.0440 | 1.4729
5205470090 | 1.0440 | 1.4729
5205480020 | 1.0440 | 1.4729
5205480090 | 1.0440 | 1.4729
5206110000 | 0.7368 | 1.0396
5206120000 | 0.7368 | 1.0396
5206130000 | 0.7368 | 1.0396
5206140000 | 0.7368 | 1.0396
5206150000 | 0.7368 | 1.0396
5206210000 | 0.7692 | 1.0853
5206220000 | 0.7692 | 1.0853
5206230000 | 0.7692 | 1.0853
5206240000 | 0.7692 | 1.0853
5206250000 | 0.7692 | 1.0853
5206310000 | 0.7368 | 1.0396
5206320000 | 0.7368 | 1.0396
5206330000 | 0.7368 | 1.0396
5206340000 | 0.7368 | 1.0396
5206350000 | 0.7368 | 1.0396
5206410000 | 0.7692 | 1.0853
5206420000 | 0.7692 | 1.0853
5206430000 | 0.7692 | 1.0853
5206440000 | 0.7692 | 1.0853
5206450000 | 0.7692 | 1.0853
5207100000 | 0.9474 | 1.3366
5207900000 | 0.6316 | 0.8911
5208112020 | 1.0852 | 1.5311
5208112040 | 1.0852 | 1.5311
5208112090 | 1.0852 | 1.5311
5208114020 | 1.0852 | 1.5311
5208114040 | 1.0852 | 1.5311
5208114060 | 1.0852 | 1.5311
5208114090 | 1.0852 | 1.5311
5208116000 | 1.0852 | 1.5311
5208118020 | 1.0852 | 1.5311
5208118090 | 1.0852 | 1.5311
5208124020 | 1.0852 | 1.5311
5208124040 | 1.0852 | 1.5311
5208124090 | 1.0852 | 1.5311
5208126020 | 1.0852 | 1.5311
5208126040 | 1.0852 | 1.5311
5208126060 | 1.0852 | 1.5311
5208126090 | 1.0852 | 1.5311
5208128020 | 1.0852 | 1.5311
5208128090 | 1.0852 | 1.5311
5208130000 | 1.0852 | 1.5311
5208192020 | 1.0852 | 1.5311
5208192090 | 1.0852 | 1.5311
5208194020 | 1.0852 | 1.5311
5208194090 | 1.0852 | 1.5311
5208196020 | 1.0852 | 1.5311
5208196090 | 1.0852 | 1.5311
5208198020 | 1.0852 | 1.5311
5208198090 | 1.0852 | 1.5311
5208212020 | 1.0852 | 1.5311
5208212040 | 1.0852 | 1.5311
5208212090 | 1.0852 | 1.5311
5208214020 | 1.0852 | 1.5311
5208214040 | 1.0852 | 1.5311
5208214060 | 1.0852 | 1.5311
5208214090 | 1.0852 | 1.5311
5208216020 | 1.0852 | 1.5311
5208216090 | 1.0852 | 1.5311
5208224020 | 1.0852 | 1.5311
5208224040 | 1.0852 | 1.5311
5208224090 | 1.0852 | 1.5311
5208226020 | 1.0852 | 1.5311
5208226040 | 1.0852 | 1.5311
5208226060 | 1.0852 | 1.5311
5208226090 | 1.0852 | 1.5311
5208228020 | 1.0852 | 1.5311
5208228090 | 1.0852 | 1.5311
5208230000 | 1.0852 | 1.5311
5208292020 | 1.0852 | 1.5311
5208292090 | 1.0852 | 1.5311
5208294020 | 1.0852 | 1.5311
5208294090 | 1.0852 | 1.5311
5208296020 | 1.0852 | 1.5311
5208296090 | 1.0852 | 1.5311
5208298020 | 1.0852 | 1.5311
5208298090 | 1.0852 | 1.5311
5208312000 | 1.0852 | 1.5311
5208314020 | 1.0852 | 1.5311
5208314040 | 1.0852 | 1.5311
5208314090 | 1.0852 | 1.5311
5208316020 | 1.0852 | 1.5311
5208316040 | 1.0852 | 1.5311
5208316060 | 1.0852 | 1.5311
5208316090 | 1.0852 | 1.5311
5208318020 | 1.0852 | 1.5311
5208318090 | 1.0852 | 1.5311
5208321000 | 1.0852 | 1.5311
5208323020 | 1.0852 | 1.5311
5208323040 | 1.0852 | 1.5311
5208323090 | 1.0852 | 1.5311
5208324020 | 1.0852 | 1.5311
5208324040 | 1.0852 | 1.5311
5208324060 | 1.0852 | 1.5311
5208324090 | 1.0852 | 1.5311
5208325020 | 1.0852 | 1.5311
5208325090 | 1.0852 | 1.5311
5208330000 | 1.0852 | 1.5311
5208392020 | 1.0852 | 1.5311
5208392090 | 1.0852 | 1.5311
5208394020 | 1.0852 | 1.5311
5208394090 | 1.0852 | 1.5311
5208396020 | 1.0852 | 1.5311
5208396090 | 1.0852 | 1.5311
5208398020 | 1.0852 | 1.5311
5208398090 | 1.0852 | 1.5311
5208412000 | 1.0852 | 1.5311
5208414000 | 1.0852 | 1.5311
5208416000 | 1.0852 | 1.5311
5208418000 | 1.0852 | 1.5311
5208421000 | 1.0852 | 1.5311
5208423000 | 1.0852 | 1.5311
5208424000 | 1.0852 | 1.5311
5208425000 | 1.0852 | 1.5311
5208430000 | 1.0852 | 1.5311
5208492000 | 1.0852 | 1.5311
5208494010 | 1.0852 | 1.5311
5208494020 | 1.0852 | 1.5311
5208494090 | 1.0852 | 1.5311
5208496010 | 1.0852 | 1.5311
5208496020 | 1.0852 | 1.5311
5208496030 | 1.0852 | 1.5311
5208496090 | 1.0852 | 1.5311
5208498020 | 1.0852 | 1.5311
5208498090 | 1.0852 | 1.5311
5208512000 | 1.0852 | 1.5311
5208514020 | 1.0852 | 1.5311
5208514040 | 1.0852 | 1.5311
5208514090 | 1.0852 | 1.5311
5208516020 | 1.0852 | 1.5311
5208516040 | 1.0852 | 1.5311
5208516060 | 1.0852 | 1.5311
5208516090 | 1.0852 | 1.5311
5208518020 | 1.0852 | 1.5311
5208518090 | 1.0852 | 1.5311
5208521000 | 1.0852 | 1.5311
5208523020 | 1.0852 | 1.5311
5208523035 | 1.0852 | 1.5311
5208523045 | 1.0852 | 1.5311
5208523090 | 1.0852 | 1.5311
5208524020 | 1.0852 | 1.5311
5208524035 | 1.0852 | 1.5311
5208524045 | 1.0852 | 1.5311
5208524055 | 1.0852 | 1.5311
5208524065 | 1.0852 | 1.5311
5208524090 | 1.0852 | 1.5311
5208525020 | 1.0852 | 1.5311
5208525090 | 1.0852 | 1.5311
5208591000 | 1.0852 | 1.5311
5208592015 | 1.0852 | 1.5311
5208592025 | 1.0852 | 1.5311
5208592085 | 1.0852 | 1.5311
5208592095 | 1.0852 | 1.5311
5208594020 | 1.0852 | 1.5311
5208594090 | 1.0852 | 1.5311
5208596020 | 1.0852 | 1.5311
5208596090 | 1.0852 | 1.5311
5208598020 | 1.0852 | 1.5311
5208598090 | 1.0852 | 1.5311
5209110020 | 1.0309 | 1.4545
5209110025 | 1.0309 | 1.4545
5209110035 | 1.0309 | 1.4545
5209110050 | 1.0309 | 1.4545
5209110090 | 1.0309 | 1.4545
5209120020 | 1.0309 | 1.4545
5209120040 | 1.0309 | 1.4545
5209190020 | 1.0309 | 1.4545
5209190040 | 1.0309 | 1.4545
5209190060 | 1.0309 | 1.4545
5209190090 | 1.0309 | 1.4545
5209210020 | 1.0309 | 1.4545
5209210025 | 1.0309 | 1.4545
5209210035 | 1.0309 | 1.4545
5209210050 | 1.0309 | 1.4545
5209210090 | 1.0309 | 1.4545
5209220020 | 1.0309 | 1.4545
5209220040 | 1.0309 | 1.4545
5209290020 | 1.0309 | 1.4545
5209290040 | 1.0309 | 1.4545
5209290060 | 1.0309 | 1.4545
5209290090 | 1.0309 | 1.4545
5209313000 | 1.0309 | 1.4545
5209316020 | 1.0309 | 1.4545
5209316025 | 1.0309 | 1.4545
5209316035 | 1.0309 | 1.4545
5209316050 | 1.0309 | 1.4545
5209316090 | 1.0309 | 1.4545
5209320020 | 1.0309 | 1.4545
5209320040 | 1.0309 | 1.4545
5209390020 | 1.0309 | 1.4545
5209390040 | 1.0309 | 1.4545
5209390060 | 1.0309 | 1.4545
5209390080 | 1.0309 | 1.4545
5209390090 | 1.0309 | 1.4545
5209413000 | 1.0309 | 1.4545
5209416020 | 1.0309 | 1.4545
5209416040 | 1.0309 | 1.4545
5209420020 | 0.9767 | 1.3780
5209420040 | 0.9767 | 1.3780
5209420060 | 0.9767 | 1.3780
5209420080 | 0.9767 | 1.3780
5209430030 | 1.0309 | 1.4545
5209430050 | 1.0309 | 1.4545
5209490020 | 1.0309 | 1.4545
5209490040 | 1.0309 | 1.4545
5209490090 | 1.0309 | 1.4545
5209513000 | 1.0309 | 1.4545
5209516015 | 1.0852 | 1.5311
5209516025 | 1.0852 | 1.5311
5209516032 | 1.0852 | 1.5311
5209516035 | 1.0852 | 1.5311
5209516050 | 1.0852 | 1.5311
5209516090 | 1.0852 | 1.5311
5209520020 | 1.0852 | 1.5311
5209520040 | 1.0852 | 1.5311
5209590015 | 1.0852 | 1.5311
5209590025 | 1.0852 | 1.5311
5209590040 | 1.0852 | 1.5311
5209590060 | 1.0852 | 1.5311
5209590090 | 1.0852 | 1.5311
5210114020 | 0.6511 | 0.9187
5210114040 | 0.6511 | 0.9187
5210114090 | 0.6511 | 0.9187
5210116020 | 0.6511 | 0.9187
5210116040 | 0.6511 | 0.9187
5210116060 | 0.6511 | 0.9187
5210116090 | 0.6511 | 0.9187
5210118020 | 0.6511 | 0.9187
5210118090 | 0.6511 | 0.9187
5210191000 | 0.6511 | 0.9187
5210192020 | 0.6511 | 0.9187
5210192090 | 0.6511 | 0.9187
5210194020 | 0.6511 | 0.9187
5210194090 | 0.6511 | 0.9187
5210196020 | 0.6511 | 0.9187
5210196090 | 0.6511 | 0.9187
5210198020 | 0.6511 | 0.9187
5210198090 | 0.6511 | 0.9187
5210214020 | 0.6511 | 0.9187
5210214040 | 0.6511 | 0.9187
5210214090 | 0.6511 | 0.9187
5210216020 | 0.6511 | 0.9187
5210216040 | 0.6511 | 0.9187
5210216060 | 0.6511 | 0.9187
5210216090 | 0.6511 | 0.9187
5210218020 | 0.6511 | 0.9187
5210218090 | 0.6511 | 0.9187
5210291000 | 0.6511 | 0.9187
5210292020 | 0.6511 | 0.9187
5210292090 | 0.6511 | 0.9187
5210294020 | 0.6511 | 0.9187
5210294090 | 0.6511 | 0.9187
5210296020 | 0.6511 | 0.9187
5210296090 | 0.6511 | 0.9187
5210298020 | 0.6511 | 0.9187
5210298090 | 0.6511 | 0.9187
5210314020 | 0.6511 | 0.9187
5210314040 | 0.6511 | 0.9187
5210314090 | 0.6511 | 0.9187
5210316020 | 0.6511 | 0.9187
5210316040 | 0.6511 | 0.9187
5210316060 | 0.6511 | 0.9187
5210316090 | 0.6511 | 0.9187
5210318020 | 0.6511 | 0.9187
5210318090 | 0.6511 | 0.9187
5210320000 | 0.6511 | 0.9187
5210392020 | 0.6511 | 0.9187
5210392090 | 0.6511 | 0.9187
5210394020 | 0.6511 | 0.9187
5210394090 | 0.6511 | 0.9187
5210396020 | 0.6511 | 0.9187
5210396090 | 0.6511 | 0.9187
5210398020 | 0.6511 | 0.9187
5210398090 | 0.6511 | 0.9187
5210414000 | 0.6511 | 0.9187
5210416000 | 0.6511 | 0.9187
5210418000 | 0.6511 | 0.9187
5210491000 | 0.6511 | 0.9187
5210492000 | 0.6511 | 0.9187
5210494010 | 0.6511 | 0.9187
5210494020 | 0.6511 | 0.9187
5210494090 | 0.6511 | 0.9187
5210496010 | 0.6511 | 0.9187
5210496020 | 0.6511 | 0.9187
5210496090 | 0.6511 | 0.9187
5210498020 | 0.6511 | 0.9187
5210498090 | 0.6511 | 0.9187
5210514020 | 0.6511 | 0.9187
5210514040 | 0.6511 | 0.9187
5210514090 | 0.6511 | 0.9187
5210516020 | 0.6511 | 0.9187
5210516040 | 0.6511 | 0.9187
5210516060 | 0.6511 | 0.9187
5210516090 | 0.6511 | 0.9187
5210518020 | 0.6511 | 0.9187
5210518090 | 0.6511 | 0.9187
5210591000 | 0.6511 | 0.9187
5210592020 | 0.6511 | 0.9187
5210592090 | 0.6511 | 0.9187
5210594020 | 0.6511 | 0.9187
5210594090 | 0.6511 | 0.9187
5210596020 | 0.6511 | 0.9187
5210596090 | 0.6511 | 0.9187
5210598020 | 0.6511 | 0.9187
5210598090 | 0.6511 | 0.9187
5211110020 | 0.6511 | 0.9187
5211110025 | 0.6511 | 0.9187
5211110035 | 0.6511 | 0.9187
5211110050 | 0.6511 | 0.9187
5211110090 | 0.6511 | 0.9187
5211120020 | 0.6511 | 0.9187
5211120040 | 0.6511 | 0.9187
5211190020 | 0.6511 | 0.9187
5211190040 | 0.6511 | 0.9187
5211190060 | 0.6511 | 0.9187
5211190090 | 0.6511 | 0.9187
5211202120 | 0.6511 | 0.9187
5211202125 | 0.6511 | 0.9187
5211202135 | 0.6511 | 0.9187
5211202150 | 0.6511 | 0.9187
5211202190 | 0.6511 | 0.9187
5211202220 | 0.6511 | 0.9187
5211202240 | 0.6511 | 0.9187
5211202920 | 0.6511 | 0.9187
5211202940 | 0.6511 | 0.9187
5211202960 | 0.6511 | 0.9187
5211202990 | 0.6511 | 0.9187
5211310020 | 0.6511 | 0.9187
5211310025 | 0.6511 | 0.9187
5211310035 | 0.6511 | 0.9187
5211310050 | 0.6511 | 0.9187
5211310090 | 0.6511 | 0.9187
5211320020 | 0.6511 | 0.9187
5211320040 | 0.6511 | 0.9187
5211390020 | 0.6511 | 0.9187
5211390040 | 0.6511 | 0.9187
5211390060 | 0.6511 | 0.9187
5211390090 | 0.6511 | 0.9187
5211410020 | 0.6511 | 0.9187
5211410040 | 0.6511 | 0.9187
5211420020 | 0.7054 | 0.9952
5211420040 | 0.7054 | 0.9952
5211420060 | 0.6511 | 0.9187
5211420080 | 0.6511 | 0.9187
5211430030 | 0.6511 | 0.9187
5211430050 | 0.6511 | 0.9187
5211490020 | 0.6511 | 0.9187
5211490090 | 0.6511 | 0.9187
5211510020 | 0.6511 | 0.9187
5211510030 | 0.6511 | 0.9187
5211510050 | 0.6511 | 0.9187
5211510090 | 0.6511 | 0.9187
5211520020 | 0.6511 | 0.9187
5211520040 | 0.6511 | 0.9187
5211590015 | 0.6511 | 0.9187
5211590025 | 0.6511 | 0.9187
5211590040 | 0.6511 | 0.9187
5211590060 | 0.6511 | 0.9187
5211590090 | 0.6511 | 0.9187
5212111010 | 0.5845 | 0.8247
5212111020 | 0.6231 | 0.8791
5212116010 | 0.8681 | 1.2249
5212116020 | 0.8681 | 1.2249
5212116030 | 0.8681 | 1.2249
5212116040 | 0.8681 | 1.2249
5212116050 | 0.8681 | 1.2249
5212116060 | 0.8681 | 1.2249
5212116070 | 0.8681 | 1.2249
5212116080 | 0.8681 | 1.2249
5212116090 | 0.8681 | 1.2249
5212121010 | 0.5845 | 0.8247
5212121020 | 0.6231 | 0.8791
5212126010 | 0.8681 | 1.2249
5212126020 | 0.8681 | 1.2249
5212126030 | 0.8681 | 1.2249
5212126040 | 0.8681 | 1.2249
5212126050 | 0.8681 | 1.2249
5212126060 | 0.8681 | 1.2249
5212126070 | 0.8681 | 1.2249
5212126080 | 0.8681 | 1.2249
5212126090 | 0.8681 | 1.2249
5212131010 | 0.5845 | 0.8247
5212131020 | 0.6231 | 0.8791
5212136010 | 0.8681 | 1.2249
5212136020 | 0.8681 | 1.2249
5212136030 | 0.8681 | 1.2249
5212136040 | 0.8681 | 1.2249
5212136050 | 0.8681 | 1.2249
5212136060 | 0.8681 | 1.2249
5212136070 | 0.8681 | 1.2249
5212136080 | 0.8681 | 1.2249
5212136090 | 0.8681 | 1.2249
5212141010 | 0.5845 | 0.8247
5212141020 | 0.6231 | 0.8791
5212146010 | 0.8681 | 1.2249
5212146020 | 0.8681 | 1.2249
5212146030 | 0.8681 | 1.2249
5212146090 | 0.8681 | 1.2249
5212151010 | 0.5845 | 0.8247
5212151020 | 0.6231 | 0.8791
5212156010 | 0.8681 | 1.2249
5212156020 | 0.8681 | 1.2249
5212156030 | 0.8681 | 1.2249
5212156040 | 0.8681 | 1.2249
5212156050 | 0.8681 | 1.2249
5212156060 | 0.8681 | 1.2249
5212156070 | 0.8681 | 1.2249
5212156080 | 0.8681 | 1.2249
5212156090 | 0.8681 | 1.2249
5212211010 | 0.5845 | 0.8247
5212211020 | 0.6231 | 0.8791
5212216010 | 0.8681 | 1.2249
5212216020 | 0.8681 | 1.2249
5212216030 | 0.8681 | 1.2249
5212216040 | 0.8681 | 1.2249
5212216050 | 0.8681 | 1.2249
5212216060 | 0.8681 | 1.2249
5212216090 | 0.8681 | 1.2249
5212221010 | 0.5845 | 0.8247
5212221020 | 0.6231 | 0.8791
5212226010 | 0.8681 | 1.2249
5212226020 | 0.8681 | 1.2249
5212226030 | 0.8681 | 1.2249
5212226040 | 0.8681 | 1.2249
5212226050 | 0.8681 | 1.2249
5212226060 | 0.8681 | 1.2249
5212226090 | 0.8681 | 1.2249
5212231010 | 0.5845 | 0.8247
5212231020 | 0.6231 | 0.8791
5212236010 | 0.8681 | 1.2249
5212236020 | 0.8681 | 1.2249
5212236030 | 0.8681 | 1.2249
5212236040 | 0.8681 | 1.2249
5212236050 | 0.8681 | 1.2249
5212236060 | 0.8681 | 1.2249
5212236090 | 0.8681 | 1.2249
5212241010 | 0.5845 | 0.8247
5212241020 | 0.6231 | 0.8791
5212246010 | 0.8681 | 1.2249
5212246020 | 0.7054 | 0.9952
5212246030 | 0.8681 | 1.2249
5212246040 | 0.8681 | 1.2249
5212246090 | 0.8681 | 1.2249
5212251010 | 0.5845 | 0.8247
5212251020 | 0.6231 | 0.8791
5212256010 | 0.8681 | 1.2249
5212256020 | 0.8681 | 1.2249
5212256030 | 0.8681 | 1.2249
5212256040 | 0.8681 | 1.2249
5212256050 | 0.8681 | 1.2249
5212256060 | 0.8681 | 1.2249
5212256090 | 0.8681 | 1.2249
5309213005 | 0.5426 | 0.7655
5309213010 | 0.5426 | 0.7655
5309213015 | 0.5426 | 0.7655
5309213020 | 0.5426 | 0.7655
5309214010 | 0.2713 | 0.3828
5309214090 | 0.2713 | 0.3828
5309293005 | 0.5426 | 0.7655
5309293010 | 0.5426 | 0.7655
5309293015 | 0.5426 | 0.7655
5309293020 | 0.5426 | 0.7655
5309294010 | 0.2713 | 0.3828
5309294090 | 0.2713 | 0.3828
5311003005 | 0.5426 | 0.7655
5311003010 | 0.5426 | 0.7655
5311003015 | 0.5426 | 0.7655
5311003020 | 0.5426 | 0.7655
5311004010 | 0.8681 | 1.2249
5311004020 | 0.8681 | 1.2249
5407810010 | 0.5426 | 0.7655
5407810020 | 0.5426 | 0.7655
5407810030 | 0.5426 | 0.7655
5407810040 | 0.5426 | 0.7655
5407810090 | 0.5426 | 0.7655
5407820010 | 0.5426 | 0.7655
5407820020 | 0.5426 | 0.7655
5407820030 | 0.5426 | 0.7655
5407820040 | 0.5426 | 0.7655
5407820090 | 0.5426 | 0.7655
5407830010 | 0.5426 | 0.7655
5407830020 | 0.5426 | 0.7655
5407830030 | 0.5426 | 0.7655
5407830040 | 0.5426 | 0.7655
5407830090 | 0.5426 | 0.7655
5407840010 | 0.5426 | 0.7655
5407840020 | 0.5426 | 0.7655
5407840030 | 0.5426 | 0.7655
5407840040 | 0.5426 | 0.7655
5407840090 | 0.5426 | 0.7655
5509210000 | 0.1053 | 0.1485
5509220010 | 0.1053 | 0.1485
5509220090 | 0.1053 | 0.1485
5509530030 | 0.3158 | 0.4455
5509530060 | 0.3158 | 0.4455
5509620000 | 0.5263 | 0.7426
5509920000 | 0.5263 | 0.7426
5510300000 | 0.3684 | 0.5198
5511200000 | 0.3158 | 0.4455
5512110010 | 0.1085 | 0.1531
5512110022 | 0.1085 | 0.1531
5512110027 | 0.1085 | 0.1531
5512110030 | 0.1085 | 0.1531
5512110040 | 0.1085 | 0.1531
5512110050 | 0.1085 | 0.1531
5512110060 | 0.1085 | 0.1531
5512110070 | 0.1085 | 0.1531
5512110090 | 0.1085 | 0.1531
5512190005 | 0.1085 | 0.1531
5512190010 | 0.1085 | 0.1531
5512190015 | 0.1085 | 0.1531
5512190022 | 0.1085 | 0.1531
5512190027 | 0.1085 | 0.1531
5512190030 | 0.1085 | 0.1531
5512190035 | 0.1085 | 0.1531
5512190040 | 0.1085 | 0.1531
5512190045 | 0.1085 | 0.1531
5512190050 | 0.1085 | 0.1531
5512190090 | 0.1085 | 0.1531
5512210010 | 0.0326 | 0.0459
5512210020 | 0.0326 | 0.0459
5512210030 | 0.0326 | 0.0459
5512210040 | 0.0326 | 0.0459
5512210060 | 0.0326 | 0.0459
5512210070 | 0.0326 | 0.0459
5512210090 | 0.0326 | 0.0459
5512290010 | 0.2170 | 0.3062
5512910010 | 0.0543 | 0.0766
5512990005 | 0.0543 | 0.0766
5512990010 | 0.0543 | 0.0766
5512990015 | 0.0543 | 0.0766
5512990020 | 0.0543 | 0.0766
5512990025 | 0.0543 | 0.0766
5512990030 | 0.0543 | 0.0766
5512990035 | 0.0543 | 0.0766
5512990040 | 0.0543 | 0.0766
5512990045 | 0.0543 | 0.0766
5512990090 | 0.0543 | 0.0766
5513110020 | 0.3581 | 0.5053
5513110040 | 0.3581 | 0.5053
5513110060 | 0.3581 | 0.5053
5513110090 | 0.3581 | 0.5053
5513120000 | 0.3581 | 0.5053
5513130020 | 0.3581 | 0.5053
5513130040 | 0.3581 | 0.5053
5513130090 | 0.3581 | 0.5053
5513190010 | 0.3581 | 0.5053
5513190020 | 0.3581 | 0.5053
5513190030 | 0.3581 | 0.5053
5513190040 | 0.3581 | 0.5053
5513190050 | 0.3581 | 0.5053
5513190060 | 0.3581 | 0.5053
5513190090 | 0.3581 | 0.5053
5513210020 | 0.3581 | 0.5053
5513210040 | 0.3581 | 0.5053
5513210060 | 0.3581 | 0.5053
5513210090 | 0.3581 | 0.5053
5513230121 | 0.3581 | 0.5053
5513230141 | 0.3581 | 0.5053
5513230191 | 0.3581 | 0.5053
5513290010 | 0.3581 | 0.5053
5513290020 | 0.3581 | 0.5053
5513290030 | 0.3581 | 0.5053
5513290040 | 0.3581 | 0.5053
5513290050 | 0.3581 | 0.5053
5513290060 | 0.3581 | 0.5053
5513290090 | 0.3581 | 0.5053
5513310000 | 0.3581 | 0.5053
5513390011 | 0.3581 | 0.5053
5513390015 | 0.3581 | 0.5053
5513390091 | 0.3581 | 0.5053
5513410020 | 0.3581 | 0.5053
5513410040 | 0.3581 | 0.5053
5513410060 | 0.3581 | 0.5053
5513410090 | 0.3581 | 0.5053
5513491000 | 0.3581 | 0.5053
5513492020 | 0.3581 | 0.5053
5513492040 | 0.3581 | 0.5053
5513492090 | 0.3581 | 0.5053
5513499010 | 0.3581 | 0.5053
5513499020 | 0.3581 | 0.5053
5513499030 | 0.3581 | 0.5053
5513499040 | 0.3581 | 0.5053
5513499050 | 0.3581 | 0.5053
5513499060 | 0.3581 | 0.5053
5513499090 | 0.3581 | 0.5053
5514110020 | 0.4341 | 0.6124
5514110030 | 0.4341 | 0.6124
5514110050 | 0.4341 | 0.6124
5514110090 | 0.4341 | 0.6124
5514120020 | 0.4341 | 0.6124
5514120040 | 0.4341 | 0.6124
5514191020 | 0.4341 | 0.6124
5514191040 | 0.4341 | 0.6124
5514191090 | 0.4341 | 0.6124
5514199010 | 0.4341 | 0.6124
5514199020 | 0.4341 | 0.6124
5514199030 | 0.4341 | 0.6124
5514199040 | 0.4341 | 0.6124
5514199090 | 0.4341 | 0.6124
5514210020 | 0.4341 | 0.6124
5514210030 | 0.4341 | 0.6124
5514210050 | 0.4341 | 0.6124
5514210090 | 0.4341 | 0.6124
5514220020 | 0.4341 | 0.6124
5514220040 | 0.4341 | 0.6124
5514230020 | 0.4341 | 0.6124
5514230040 | 0.4341 | 0.6124
5514230090 | 0.4341 | 0.6124
5514290010 | 0.4341 | 0.6124
5514290020 | 0.4341 | 0.6124
5514290030 | 0.4341 | 0.6124
5514290040 | 0.4341 | 0.6124
5514290090 | 0.4341 | 0.6124
5514303100 | 0.4341 | 0.6124
5514303210 | 0.4341 | 0.6124
5514303215 | 0.4341 | 0.6124
5514303280 | 0.4341 | 0.6124
5514303310 | 0.4341 | 0.6124
5514303390 | 0.4341 | 0.6124
5514303910 | 0.4341 | 0.6124
5514303920 | 0.4341 | 0.6124
5514303990 | 0.4341 | 0.6124
5514410020 | 0.4341 | 0.6124
5514410030 | 0.4341 | 0.6124
5514410050 | 0.4341 | 0.6124
5514410090 | 0.4341 | 0.6124
5514420020 | 0.4341 | 0.6124
5514420040 | 0.4341 | 0.6124
5514430020 | 0.4341 | 0.6124
5514430040 | 0.4341 | 0.6124
5514430090 | 0.4341 | 0.6124
5514490010 | 0.4341 | 0.6124
5514490020 | 0.4341 | 0.6124
5514490030 | 0.4341 | 0.6124
5514490040 | 0.4341 | 0.6124
5514490090 | 0.4341 | 0.6124
5515110005 | 0.1085 | 0.1531
5515110010 | 0.1085 | 0.1531
5515110015 | 0.1085 | 0.1531
5515110020 | 0.1085 | 0.1531
5515110025 | 0.1085 | 0.1531
5515110030 | 0.1085 | 0.1531
5515110035 | 0.1085 | 0.1531
5515110040 | 0.1085 | 0.1531
5515110045 | 0.1085 | 0.1531
5515110090 | 0.1085 | 0.1531
5515120010 | 0.1085 | 0.1531
5515120022 | 0.1085 | 0.1531
5515120027 | 0.1085 | 0.1531
5515120030 | 0.1085 | 0.1531
5515120040 | 0.1085 | 0.1531
5515120090 | 0.1085 | 0.1531
5515190005 | 0.1085 | 0.1531
5515190010 | 0.1085 | 0.1531
5515190015 | 0.1085 | 0.1531
5515190020 | 0.1085 | 0.1531
5515190025 | 0.1085 | 0.1531
5515190030 | 0.1085 | 0.1531
5515190035 | 0.1085 | 0.1531
5515190040 | 0.1085 | 0.1531
5515190045 | 0.1085 | 0.1531
5515190090 | 0.1085 | 0.1531
5515290005 | 0.1085 | 0.1531
5515290010 | 0.1085 | 0.1531
5515290015 | 0.1085 | 0.1531
5515290020 | 0.1085 | 0.1531
5515290025 | 0.1085 | 0.1531
5515290030 | 0.1085 | 0.1531
5515290035 | 0.1085 | 0.1531
5515290040 | 0.1085 | 0.1531
5515290045 | 0.1085 | 0.1531
5515290090 | 0.1085 | 0.1531
5515999005 | 0.1085 | 0.1531
5515999010 | 0.1085 | 0.1531
5515999015 | 0.1085 | 0.1531
5515999020 | 0.1085 | 0.1531
5515999025 | 0.1085 | 0.1531
5515999030 | 0.1085 | 0.1531
5515999035 | 0.1085 | 0.1531
5515999040 | 0.1085 | 0.1531
5515999045 | 0.1085 | 0.1531
5515999090 | 0.1085 | 0.1531
5516210010 | 0.1085 | 0.1531
5516210020 | 0.1085 | 0.1531
5516210030 | 0.1085 | 0.1531
5516210040 | 0.1085 | 0.1531
5516210090 | 0.1085 | 0.1531
5516220010 | 0.1085 | 0.1531
5516220020 | 0.1085 | 0.1531
5516220030 | 0.1085 | 0.1531
5516220040 | 0.1085 | 0.1531
5516220090 | 0.1085 | 0.1531
5516230010 | 0.1085 | 0.1531
5516230020 | 0.1085 | 0.1531
5516230030 | 0.1085 | 0.1531
5516230040 | 0.1085 | 0.1531
5516230090 | 0.1085 | 0.1531
5516240010 | 0.1085 | 0.1531
5516240020 | 0.1085 | 0.1531
5516240030 | 0.1085 | 0.1531
5516240040 | 0.1085 | 0.1531
5516240085 | 0.1085 | 0.1531
5516240095 | 0.1085 | 0.1531
5516410010 | 0.3798 | 0.5359
5516410022 | 0.3798 | 0.5359
5516410027 | 0.3798 | 0.5359
5516410030 | 0.3798 | 0.5359
5516410040 | 0.3798 | 0.5359
5516410050 | 0.3798 | 0.5359
5516410060 | 0.3798 | 0.5359
5516410070 | 0.3798 | 0.5359
5516410090 | 0.3798 | 0.5359
5516420010 | 0.3798 | 0.5359
5516420022 | 0.3798 | 0.5359
5516420027 | 0.3798 | 0.5359
5516420030 | 0.3798 | 0.5359
5516420040 | 0.3798 | 0.5359
5516420050 | 0.3798 | 0.5359
5516420060 | 0.3798 | 0.5359
5516420070 | 0.3798 | 0.5359
5516420090 | 0.3798 | 0.5359
5516430010 | 0.2170 | 0.3062
5516430015 | 0.3798 | 0.5359
5516430020 | 0.3798 | 0.5359
5516430035 | 0.3798 | 0.5359
5516430080 | 0.3798 | 0.5359
5516440010 | 0.3798 | 0.5359
5516440022 | 0.3798 | 0.5359
5516440027 | 0.3798 | 0.5359
5516440030 | 0.3798 | 0.5359
5516440040 | 0.3798 | 0.5359
5516440050 | 0.3798 | 0.5359
5516440060 | 0.3798 | 0.5359
5516440070 | 0.3798 | 0.5359
5516440090 | 0.3798 | 0.5359
5516910010 | 0.0543 | 0.0766
5516910020 | 0.0543 | 0.0766
5516910030 | 0.0543 | 0.0766
5516910040 | 0.0543 | 0.0766
5516910050 | 0.0543 | 0.0766
5516910060 | 0.0543 | 0.0766
5516910070 | 0.0543 | 0.0766
5516910090 | 0.0543 | 0.0766
5516920010 | 0.0543 | 0.0766
5516920020 | 0.0543 | 0.0766
5516920030 | 0.0543 | 0.0766
5516920040 | 0.0543 | 0.0766
5516920050 | 0.0543 | 0.0766
5516920060 | 0.0543 | 0.0766
5516920070 | 0.0543 | 0.0766
5516920090 | 0.0543 | 0.0766
5516930010 | 0.0543 | 0.0766
5516930020 | 0.0543 | 0.0766
5516930090 | 0.0543 | 0.0766
5516940010 | 0.0543 | 0.0766
5516940020 | 0.0543 | 0.0766
5516940030 | 0.0543 | 0.0766
5516940040 | 0.0543 | 0.0766
5516940050 | 0.0543 | 0.0766
5516940060 | 0.0543 | 0.0766
5516940070 | 0.0543 | 0.0766
5516940090 | 0.0543 | 0.0766
5601210010 | 0.9767 | 1.3780
5601210090 | 0.9767 | 1.3780
5601220010 | 0.9767 | 1.3780
5601220090 | 0.9767 | 1.3780
5601300000 | 0.3256 | 0.4593
5602101000 | 0.0543 | 0.0766
5602109090 | 0.4341 | 0.6124
5602290000 | 0.4341 | 0.6124
5602906000 | 0.5426 | 0.7656
5602909000 | 0.3256 | 0.4593
5603143000 | 0.2713 | 0.3828
5603910010 | 0.0217 | 0.0306
5603910090 | 0.0651 | 0.0919
5603920010 | 0.0217 | 0.0306
5603920090 | 0.0651 | 0.0919
5603930010 | 0.0217 | 0.0306
5603930090 | 0.0651 | 0.0919
5603941090 | 0.3256 | 0.4593
5603943000 | 0.1628 | 0.2297
5603949010 | 0.0326 | 0.0459
5604100000 | 0.2632 | 0.3713
5604909000 | 0.2105 | 0.2970
5605009000 | 0.1579 | 0.2228
5606000010 | 0.1263 | 0.1782
5606000090 | 0.1263 | 0.1782
5607502500 | 0.1684 | 0.2376
5607909000 | 0.8421 | 1.1881
5608901000 | 1.0852 | 1.5311
5608902300 | 0.6316 | 0.8911
5608902700 | 0.6316 | 0.8911
5608903000 | 0.3158 | 0.4455
5609001000 | 0.8421 | 1.1881
5609004000 | 0.2105 | 0.2970
5701101300 | 0.0526 | 0.0743
5701101600 | 0.0526 | 0.0743
5701104000 | 0.0526 | 0.0743
5701109000 | 0.0526 | 0.0743
5701901010 | 1.0000 | 1.4109
5701901020 | 1.0000 | 1.4109
5701901030 | 0.0526 | 0.0743
5701901090 | 0.0526 | 0.0743
5701902010 | 0.9474 | 1.3366
5701902020 | 0.9474 | 1.3366
5701902030 | 0.0526 | 0.0743
5701902090 | 0.0526 | 0.0743
5702101000 | 0.0447 | 0.0631
5702109010 | 0.0447 | 0.0631
5702109020 | 0.8500 | 1.1993
5702109030 | 0.0447 | 0.0631
5702109090 | 0.0447 | 0.0631
5702201000 | 0.0447 | 0.0631
5702311000 | 0.0447 | 0.0631
5702312000 | 0.0895 | 0.1262
5702322000 | 0.0895 | 0.1262
5702391000 | 0.0895 | 0.1262
5702392010 | 0.8053 | 1.1361
5702392090 | 0.0447 | 0.0631
5702411000 | 0.0447 | 0.0631
5702412000 | 0.0447 | 0.0631
5702421000 | 0.0895 | 0.1262
5702422020 | 0.0895 | 0.1262
5702422080 | 0.0895 | 0.1262
5702491020 | 0.8947 | 1.2624
5702491080 | 0.8947 | 1.2624
5702492000 | 0.0895 | 0.1262
5702502000 | 0.0895 | 0.1262
5702504000 | 0.0447 | 0.0631
5702505200 | 0.0895 | 0.1262
5702505600 | 0.8500 | 1.1993
5702912000 | 0.0447 | 0.0631
5702913000 | 0.0447 | 0.0631
5702914000 | 0.0447 | 0.0631
5702921000 | 0.0447 | 0.0631
5702929000 | 0.0447 | 0.0631
5702990500 | 0.8947 | 1.2624
5702991500 | 0.8947 | 1.2624
5703201000 | 0.0452 | 0.0638
5703202010 | 0.0452 | 0.0638
5703302000 | 0.0452 | 0.0638
5703900000 | 0.3615 | 0.5101
5705001000 | 0.0452 | 0.0638
5705002005 | 0.0452 | 0.0638
5705002015 | 0.0452 | 0.0638
5705002020 | 0.7682 | 1.0839
5705002030 | 0.0452 | 0.0638
5705002090 | 0.1808 | 0.2550
5801210000 | 0.9767 | 1.3780
5801221000 | 0.9767 | 1.3780
5801229000 | 0.9767 | 1.3780
5801230000 | 0.9767 | 1.3780
5801260010 | 0.7596 | 1.0718
5801260020 | 0.7596 | 1.0718
5801310000 | 0.2170 | 0.3062
5801320000 | 0.2170 | 0.3062
5801330000 | 0.2170 | 0.3062
5801360010 | 0.2170 | 0.3062
5801360020 | 0.2170 | 0.3062
5802110000 | 1.0309 | 1.4545
5802190000 | 1.0309 | 1.4545
5802200020 | 0.1085 | 0.1531
5802200090 | 0.3256 | 0.4593
5802300030 | 0.4341 | 0.6124
5802300090 | 0.1085 | 0.1531
5803001000 | 1.0852 | 1.5311
5803002000 | 0.8681 | 1.2249
5803003000 | 0.8681 | 1.2249
5803005000 | 0.3256 | 0.4593
5804101000 | 0.4341 | 0.6124
5804109090 | 0.2193 | 0.3094
5804291000 | 0.8772 | 1.2376
5804300020 | 0.3256 | 0.4593
5805001000 | 0.1085 | 0.1531
5805003000 | 1.0852 | 1.5311
5806101000 | 0.8681 | 1.2249
5806103090 | 0.2170 | 0.3062
5806200010 | 0.2577 | 0.3636
5806200090 | 0.2577 | 0.3636
5806310000 | 0.8681 | 1.2249
5806393080 | 0.2170 | 0.3062
5806400000 | 0.0814 | 0.1148
5807100510 | 0.8681 | 1.2249
5807102010 | 0.8681 | 1.2249
5807900510 | 0.8681 | 1.2249
5807902010 | 0.8681 | 1.2249
5808104000 | 0.2170 | 0.3062
5808107000 | 0.2170 | 0.3062
5808900010 | 0.4341 | 0.6124
5810100000 | 0.3256 | 0.4593
5810910010 | 0.7596 | 1.0718
5810910020 | 0.7596 | 1.0718
5810921000 | 0.2170 | 0.3062
5810929030 | 0.2170 | 0.3062
5810929050 | 0.2170 | 0.3062
5810929080 | 0.2170 | 0.3062
5811002000 | 0.8681 | 1.2249
5901102000 | 0.5643 | 0.7962
5901904000 | 0.8139 | 1.1483
5903101000 | 0.4341 | 0.6124
5903103000 | 0.1085 | 0.1531
5903201000 | 0.4341 | 0.6124
5903203090 | 0.1085 | 0.1531
5903901000 | 0.4341 | 0.6124
5903903090 | 0.1085 | 0.1531
5904901000 | 0.0326 | 0.0459
5905001000 | 0.1085 | 0.1531
5905009000 | 0.1085 | 0.1531
5906100000 | 0.4341 | 0.6124
5906911000 | 0.4341 | 0.6124
5906913000 | 0.1085 | 0.1531
5906991000 | 0.4341 | 0.6124
5906993000 | 0.1085 | 0.1531
5907002500 | 0.3798 | 0.5359
5907003500 | 0.3798 | 0.5359
5907008090 | 0.3798 | 0.5359
5908000000 | 0.7813 | 1.1024
5909001000 | 0.6837 | 0.9646
5909002000 | 0.4883 | 0.6890
5910001010 | 0.3798 | 0.5359
5910001020 | 0.3798 | 0.5359
5910001030 | 0.3798 | 0.5359
5910001060 | 0.3798 | 0.5359
5910001070 | 0.3798 | 0.5359
5910001090 | 0.6837 | 0.9646
5910009000 | 0.5697 | 0.8038
5911101000 | 0.1736 | 0.2450
5911102000 | 0.0434 | 0.0612
5911201000 | 0.4341 | 0.6124
5911310010 | 0.4341 | 0.6124
5911310020 | 0.4341 | 0.6124
5911310030 | 0.4341 | 0.6124
5911310080 | 0.4341 | 0.6124
5911320010 | 0.4341 | 0.6124
5911320020 | 0.4341 | 0.6124
5911320030 | 0.4341 | 0.6124
5911320080 | 0.4341 | 0.6124
5911400000 | 0.5426 | 0.7655
5911900040 | 0.3158 | 0.4455
5911900080 | 0.2105 | 0.2970
6001106000 | 0.1096 | 0.1547
6001210000 | 0.9868 | 1.3923
6001220000 | 0.1096 | 0.1547
6001290000 | 0.1096 | 0.1547
6001910010 | 0.8772 | 1.2376
6001910020 | 0.8772 | 1.2376
6001920010 | 0.0548 | 0.0774
6001920020 | 0.0548 | 0.0774
6001920030 | 0.0548 | 0.0774
6001920040 | 0.0548 | 0.0774
6001999000 | 0.1096 | 0.1547
6002404000 | 0.7401 | 1.0443
6002408020 | 0.1974 | 0.2785
6002408080 | 0.1974 | 0.2785
6002904000 | 0.7895 | 1.1139
6002908020 | 0.1974 | 0.2785
6002908080 | 0.1974 | 0.2785
6003201000 | 0.8772 | 1.2376
6003203000 | 0.8772 | 1.2376
6003301000 | 0.1096 | 0.1547
6003306000 | 0.1096 | 0.1547
6003401000 | 0.1096 | 0.1547
6003406000 | 0.1096 | 0.1547
6003901000 | 0.1096 | 0.1547
6003909000 | 0.1096 | 0.1547
6004100010 | 0.2961 | 0.4177
6004100025 | 0.2961 | 0.4177
6004100085 | 0.2961 | 0.4177
6004902010 | 0.2961 | 0.4177
6004902025 | 0.2961 | 0.4177
6004902085 | 0.2961 | 0.4177
6004909000 | 0.2961 | 0.4177
6005210000 | 0.7127 | 1.0056
6005220000 | 0.7127 | 1.0056
6005230000 | 0.7127 | 1.0056
6005240000 | 0.7127 | 1.0056
6005310010 | 0.1096 | 0.1547
6005310080 | 0.1096 | 0.1547
6005320010 | 0.1096 | 0.1547
6005320080 | 0.1096 | 0.1547
6005330010 | 0.1096 | 0.1547
6005330080 | 0.1096 | 0.1547
6005340010 | 0.1096 | 0.1547
6005340080 | 0.1096 | 0.1547
6005410010 | 0.1096 | 0.1547
6005410080 | 0.1096 | 0.1547
6005420010 | 0.1096 | 0.1547
6005420080 | 0.1096 | 0.1547
6005430010 | 0.1096 | 0.1547
6005430080 | 0.1096 | 0.1547
6005440010 | 0.1096 | 0.1547
6005440080 | 0.1096 | 0.1547
6005909000 | 0.1096 | 0.1547
6006211000 | 1.0965 | 1.5470
6006219020 | 0.7675 | 1.0829
6006219080 | 0.7675 | 1.0829
6006221000 | 1.0965 | 1.5470
6006229020 | 0.7675 | 1.0829
6006229080 | 0.7675 | 1.0829
6006231000 | 1.0965 | 1.5470
6006239020 | 0.7675 | 1.0829
6006239080 | 0.7675 | 1.0829
6006241000 | 1.0965 | 1.5470
6006249020 | 0.7675 | 1.0829
6006249080 | 0.7675 | 1.0829
6006310020 | 0.3289 | 0.4641
6006310040 | 0.3289 | 0.4641
6006310060 | 0.3289 | 0.4641
6006310080 | 0.3289 | 0.4641
6006320020 | 0.3289 | 0.4641
6006320040 | 0.3289 | 0.4641
6006320060 | 0.3289 | 0.4641
6006320080 | 0.3289 | 0.4641
6006330020 | 0.3289 | 0.4641
6006330040 | 0.3289 | 0.4641
6006330060 | 0.3289 | 0.4641
6006330080 | 0.3289 | 0.4641
6006340020 | 0.3289 | 0.4641
6006340040 | 0.3289 | 0.4641
6006340060 | 0.3289 | 0.4641
6006340080 | 0.3289 | 0.4641
6006410025 | 0.3289 | 0.4641
6006410085 | 0.3289 | 0.4641
6006420025 | 0.3289 | 0.4641
6006420085 | 0.3289 | 0.4641
6006430025 | 0.3289 | 0.4641
6006430085 | 0.3289 | 0.4641
6006440025 | 0.3289 | 0.4641
6006440085 | 0.3289 | 0.4641
6006909000 | 0.1096 | 0.1547
6101200010 | 1.0200 | 1.4391
6101200020 | 1.0200 | 1.4391
6101301000 | 0.2072 | 0.2923
6101900500 | 0.1912 | 0.2698
6101909010 | 0.5737 | 0.8095
6101909030 | 0.5100 | 0.7196
6101909060 | 0.2550 | 0.3598
6102100000 | 0.2550 | 0.3598
6102200010 | 0.9562 | 1.3492
6102200020 | 0.9562 | 1.3492
6102300500 | 0.1785 | 0.2518
6102909005 | 0.5737 | 0.8095
6102909015 | 0.4462 | 0.6296
6102909030 | 0.2550 | 0.3598
6103101000 | 0.0637 | 0.0899
6103104000 | 0.1218 | 0.1719
6103105000 | 0.1218 | 0.1719
6103106010 | 0.8528 | 1.2033
6103106015 | 0.8528 | 1.2033
6103106030 | 0.8528 | 1.2033
6103109010 | 0.5482 | 0.7735
6103109020 | 0.5482 | 0.7735
6103109030 | 0.5482 | 0.7735
6103109040 | 0.1218 | 0.1719
6103109050 | 0.1218 | 0.1719
6103109080 | 0.1827 | 0.2578
6103320000 | 0.8722 | 1.2306
6103398010 | 0.7476 | 1.0548
6103398030 | 0.3738 | 0.5274
6103398060 | 0.2492 | 0.3516
6103411010 | 0.3576 | 0.5045
6103411020 | 0.3576 | 0.5045
6103412000 | 0.3576 | 0.5045
6103421020 | 0.8343 | 1.1771
6103421035 | 0.8343 | 1.1771
6103421040 | 0.8343 | 1.1771
6103421050 | 0.8343 | 1.1771
6103421065 | 0.8343 | 1.1771
6103421070 | 0.8343 | 1.1771
6103422010 | 0.8343 | 1.1771
6103422015 | 0.8343 | 1.1771
6103422025 | 0.8343 | 1.1771
6103431520 | 0.2384 | 0.3363
6103431535 | 0.2384 | 0.3363
6103431540 | 0.2384 | 0.3363
6103431550 | 0.2384 | 0.3363
6103431565 | 0.2384 | 0.3363
6103431570 | 0.2384 | 0.3363
6103432020 | 0.2384 | 0.3363
6103432025 | 0.2384 | 0.3363
6103491020 | 0.2437 | 0.3438
6103491060 | 0.2437 | 0.3438
6103492000 | 0.2437 | 0.3438
6103498010 | 0.5482 | 0.7735
6103498014 | 0.3655 | 0.5157
6103498024 | 0.2437 | 0.3438
6103498026 | 0.2437 | 0.3438
6103498034 | 0.5482 | 0.7735
6103498038 | 0.3655 | 0.5157
6103498060 | 0.2437 | 0.3438
6104196010 | 0.8722 | 1.2306
6104196020 | 0.8722 | 1.2306
6104196030 | 0.8722 | 1.2306
6104196040 | 0.8722 | 1.2306
6104198010 | 0.5607 | 0.7911
6104198020 | 0.5607 | 0.7911
6104198030 | 0.5607 | 0.7911
6104198040 | 0.5607 | 0.7911
6104198060 | 0.3738 | 0.5274
6104198090 | 0.2492 | 0.3516
6104320000 | 0.8722 | 1.2306
6104392010 | 0.5607 | 0.7911
6104392030 | 0.3738 | 0.5274
6104392090 | 0.2492 | 0.3516
6104420010 | 0.8528 | 1.2033
6104420020 | 0.8528 | 1.2033
6104499010 | 0.5482 | 0.7735
6104499030 | 0.3655 | 0.5157
6104499060 | 0.2437 | 0.3438
6104520010 | 0.8822 | 1.2447
6104520020 | 0.8822 | 1.2447
6104598010 | 0.5672 | 0.8002
6104598030 | 0.3781 | 0.5335
6104598090 | 0.2521 | 0.3556
6104610010 | 0.2384 | 0.3363
6104610020 | 0.2384 | 0.3363
6104610030 | 0.2384 | 0.3363
6104621010 | 0.7509 | 1.0594
6104621020 | 0.8343 | 1.1771
6104621030 | 0.8343 | 1.1771
6104622006 | 0.7151 | 1.0089
6104622011 | 0.8343 | 1.1771
6104622016 | 0.7151 | 1.0089
6104622021 | 0.8343 | 1.1771
6104622026 | 0.7151 | 1.0089
6104622028 | 0.8343 | 1.1771
6104622030 | 0.8343 | 1.1771
6104622050 | 0.8343 | 1.1771
6104622060 | 0.8343 | 1.1771
6104631020 | 0.2384 | 0.3363
6104631030 | 0.2384 | 0.3363
6104632006 | 0.8343 | 1.1771
6104632011 | 0.8343 | 1.1771
6104632016 | 0.7151 | 1.0089
6104632021 | 0.8343 | 1.1771
6104632026 | 0.3576 | 0.5045
6104632028 | 0.3576 | 0.5045
6104632030 | 0.3576 | 0.5045
6104632050 | 0.7151 | 1.0089
6104632060 | 0.3576 | 0.5045
6104691000 | 0.3655 | 0.5157
6104692030 | 0.3655 | 0.5157
6104692060 | 0.3655 | 0.5157
6104698010 | 0.5482 | 0.7735
6104698014 | 0.3655 | 0.5157
6104698020 | 0.2437 | 0.3438
6104698022 | 0.5482 | 0.7735
6104698026 | 0.3655 | 0.5157
6104698038 | 0.2437 | 0.3438
6104698040 | 0.2437 | 0.3438
6105100010 | 0.9332 | 1.3166
6105100020 | 0.9332 | 1.3166
6105100030 | 0.9332 | 1.3166
6105202010 | 0.2916 | 0.4114
6105202020 | 0.2916 | 0.4114
6105202030 | 0.2916 | 0.4114
6105908010 | 0.5249 | 0.7406
6105908030 | 0.3499 | 0.4937
6105908060 | 0.2333 | 0.3292
6106100010 | 0.9332 | 1.3166
6106100020 | 0.9332 | 1.3166
6106100030 | 0.9332 | 1.3166
6106202010 | 0.2916 | 0.4114
6106202020 | 0.4666 | 0.6583
6106202030 | 0.2916 | 0.4114
6106901500 | 0.0583 | 0.0823
6106902510 | 0.5249 | 0.7406
6106902530 | 0.3499 | 0.4937
6106902550 | 0.2916 | 0.4114
6106903010 | 0.5249 | 0.7406
6106903030 | 0.3499 | 0.4937
6106903040 | 0.2916 | 0.4114
6107110010 | 1.0727 | 1.5134
6107110020 | 1.0727 | 1.5134
6107120010 | 0.4767 | 0.6726
6107120020 | 0.4767 | 0.6726
6107191000 | 0.1192 | 0.1682
6107210010 | 0.8343 | 1.1771
6107210020 | 0.7151 | 1.0089
6107220010 | 0.3576 | 0.5045
6107220015 | 0.1192 | 0.1682
6107220025 | 0.2384 | 0.3363
6107299000 | 0.1788 | 0.2522
6107910030 | 1.1918 | 1.6816
6107910040 | 1.1918 | 1.6816
6107910090 | 0.9535 | 1.3453
6107991030 | 0.3576 | 0.5045
6107991040 | 0.3576 | 0.5045
6107991090 | 0.3576 | 0.5045
6107999000 | 0.1192 | 0.1682
6108199010 | 1.0611 | 1.4971
6108199030 | 0.2358 | 0.3327
6108210010 | 1.1790 | 1.6635
6108210020 | 1.1790 | 1.6635
6108299000 | 0.3537 | 0.4990
6108310010 | 1.0611 | 1.4971
6108310020 | 1.0611 | 1.4971
6108320010 | 0.2358 | 0.3327
6108320015 | 0.2358 | 0.3327
6108320025 | 0.2358 | 0.3327
6108398000 | 0.3537 | 0.4990
6108910005 | 1.1790 | 1.6635
6108910015 | 1.1790 | 1.6635
6108910025 | 1.1790 | 1.6635
6108910030 | 1.1790 | 1.6635
6108910040 | 1.1790 | 1.6635
6108920005 | 0.2358 | 0.3327
6108920015 | 0.2358 | 0.3327
6108920025 | 0.2358 | 0.3327
6108920030 | 0.2358 | 0.3327
6108920040 | 0.2358 | 0.3327
6108999000 | 0.3537 | 0.4990
6109100004 | 1.0022 | 1.4140
6109100007 | 1.0022 | 1.4140
6109100011 | 1.0022 | 1.4140
6109100012 | 1.0022 | 1.4140
6109100014 | 1.0022 | 1.4140
6109100018 | 1.0022 | 1.4140
6109100023 | 1.0022 | 1.4140
6109100027 | 1.0022 | 1.4140
6109100037 | 1.0022 | 1.4140
6109100040 | 1.0022 | 1.4140
6109100045 | 1.0022 | 1.4140
6109100060 | 1.0022 | 1.4140
6109100065 | 1.0022 | 1.4140
6109100070 | 1.0022 | 1.4140
6109901007 | 0.2948 | 0.4159
6109901009 | 0.2948 | 0.4159
6109901013 | 0.2948 | 0.4159
6109901025 | 0.2948 | 0.4159
6109901047 | 0.2948 | 0.4159
6109901049 | 0.2948 | 0.4159
6109901050 | 0.2948 | 0.4159
6109901060 | 0.2948 | 0.4159
6109901065 | 0.2948 | 0.4159
6109901070 | 0.2948 | 0.4159
6109901075 | 0.2948 | 0.4159
6109901090 | 0.2948 | 0.4159
6109908010 | 0.3499 | 0.4937
6109908030 | 0.2333 | 0.3292
6110201010 | 0.7476 | 1.0548
6110201020 | 0.7476 | 1.0548
6110201022 | 0.7476 | 1.0548
6110201024 | 0.7476 | 1.0548
6110201026 | 0.7476 | 1.0548
6110201029 | 0.7476 | 1.0548
6110201031 | 0.7476 | 1.0548
6110201033 | 0.7476 | 1.0548
6110202005 | 1.1214 | 1.5822
6110202010 | 1.1214 | 1.5822
6110202015 | 1.1214 | 1.5822
6110202020 | 1.1214 | 1.5822
6110202025 | 1.1214 | 1.5822
6110202030 | 1.1214 | 1.5822
6110202035 | 1.1214 | 1.5822
6110202040 | 1.0965 | 1.5470
6110202045 | 1.0965 | 1.5470
6110202067 | 1.0965 | 1.5470
6110202069 | 1.0965 | 1.5470
6110202077 | 1.0965 | 1.5470
6110202079 | 1.0965 | 1.5470
6110909010 | 0.5607 | 0.7911
6110909012 | 0.1246 | 0.1758
6110909014 | 0.3738 | 0.5274
6110909020 | 0.2492 | 0.3516
6110909022 | 0.2492 | 0.3516
6110909024 | 0.2492 | 0.3516
6110909026 | 0.5607 | 0.7911
6110909028 | 0.1869 | 0.2637
6110909030 | 0.3738 | 0.5274
6110909038 | 0.2492 | 0.3516
6110909040 | 0.2492 | 0.3516
6110909042 | 0.2492 | 0.3516
6110909044 | 0.5607 | 0.7911
6110909046 | 0.5607 | 0.7911
6110909052 | 0.3738 | 0.5274
6110909054 | 0.3738 | 0.5274
6110909064 | 0.2492 | 0.3516
6110909066 | 0.2492 | 0.3516
6110909067 | 0.5607 | 0.7911
6110909069 | 0.5607 | 0.7911
6110909071 | 0.5607 | 0.7911
6110909073 | 0.5607 | 0.7911
6110909079 | 0.3738 | 0.5274
6110909080 | 0.3738 | 0.5274
6110909081 | 0.3738 | 0.5274
6110909082 | 0.3738 | 0.5274
6110909088 | 0.2492 | 0.3516
6110909090 | 0.2492 | 0.3516
6111201000 | 1.1918 | 1.6816
6111202000 | 1.1918 | 1.6816
6111203000 | 0.9535 | 1.3453
6111204000 | 0.9535 | 1.3453
6111205000 | 0.9535 | 1.3453
6111206010 | 0.9535 | 1.3453
6111206020 | 0.9535 | 1.3453
6111206030 | 0.9535 | 1.3453
6111206050 | 0.9535 | 1.3453
6111206070 | 0.9535 | 1.3453
6111301000 | 0.2384 | 0.3363
6111302000 | 0.2384 | 0.3363
6111303000 | 0.2384 | 0.3363
6111304000 | 0.2384 | 0.3363
6111305010 | 0.2384 | 0.3363
6111305015 | 0.2384 | 0.3363
6111305020 | 0.2384 | 0.3363
6111305030 | 0.2384 | 0.3363
6111305050 | 0.2384 | 0.3363
6111305070 | 0.2384 | 0.3363
6111901000 | 0.2384 | 0.3363
6111902000 | 0.2384 | 0.3363
6111903000 | 0.2384 | 0.3363
6111904000 | 0.2384 | 0.3363
6111905010 | 0.2384 | 0.3363
6111905020 | 0.2384 | 0.3363
6111905030 | 0.2384 | 0.3363
6111905050 | 0.2384 | 0.3363
6111905070 | 0.2384 | 0.3363
6112110010 | 0.9535 | 1.3453
6112110020 | 0.9535 | 1.3453
6112110030 | 0.9535 | 1.3453
6112110040 | 0.9535 | 1.3453
6112110050 | 0.9535 | 1.3453
6112110060 | 0.9535 | 1.3453
6112120010 | 0.2384 | 0.3363
6112120020 | 0.2384 | 0.3363
6112120030 | 0.2384 | 0.3363
6112120040 | 0.2384 | 0.3363
6112120050 | 0.2384 | 0.3363
6112120060 | 0.2384 | 0.3363
6112191010 | 0.2492 | 0.3516
6112191020 | 0.2492 | 0.3516
6112191030 | 0.2492 | 0.3516
6112191040 | 0.2492 | 0.3516
6112191050 | 0.2492 | 0.3516
6112191060 | 0.2492 | 0.3516
6112201060 | 0.2492 | 0.3516
6112201070 | 0.2492 | 0.3516
6112201080 | 0.2492 | 0.3516
6112201090 | 0.2492 | 0.3516
6112202010 | 0.8722 | 1.2306
6112202020 | 0.3738 | 0.5274
6112202030 | 0.2492 | 0.3516
6112310010 | 0.1192 | 0.1682
6112310020 | 0.1192 | 0.1682
6112390010 | 1.0727 | 1.5134
6112410010 | 0.1192 | 0.1682
6112410020 | 0.1192 | 0.1682
6112410030 | 0.1192 | 0.1682
6112410040 | 0.1192 | 0.1682
6112490010 | 0.8939 | 1.2612
6113001005 | 0.1246 | 0.1758
6113001010 | 0.1246 | 0.1758
6113001012 | 0.1246 | 0.1758
6113009015 | 0.3489 | 0.4922
6113009020 | 0.3489 | 0.4922
6113009038 | 0.3489 | 0.4922
6113009042 | 0.3489 | 0.4922
6113009055 | 0.3489 | 0.4922
6113009060 | 0.3489 | 0.4922
6113009074 | 0.3489 | 0.4922
6113009082 | 0.3489 | 0.4922
6114200005 | 0.9747 | 1.3751
6114200010 | 0.9747 | 1.3751
6114200015 | 0.8528 | 1.2033
6114200020 | 0.8528 | 1.2033
6114200035 | 0.8528 | 1.2033
6114200040 | 0.8528 | 1.2033
6114200042 | 0.3655 | 0.5157
6114200044 | 0.8528 | 1.2033
6114200046 | 0.8528 | 1.2033
6114200048 | 0.8528 | 1.2033
6114200052 | 0.8528 | 1.2033
6114200055 | 0.8528 | 1.2033
6114200060 | 0.8528 | 1.2033
6114301010 | 0.2437 | 0.3438
6114301020 | 0.2437 | 0.3438
6114302060 | 0.1218 | 0.1719
6114303014 | 0.2437 | 0.3438
6114303020 | 0.2437 | 0.3438
6114303030 | 0.2437 | 0.3438
6114303042 | 0.2437 | 0.3438
6114303044 | 0.2437 | 0.3438
6114303052 | 0.2437 | 0.3438
6114303054 | 0.2437 | 0.3438
6114303060 | 0.2437 | 0.3438
6114303070 | 0.2437 | 0.3438
6114909045 | 0.5482 | 0.7735
6114909055 | 0.3655 | 0.5157
6114909070 | 0.3655 | 0.5157
6115100500 | 0.4386 | 0.6188
6115101510 | 1.0965 | 1.5470
6115103000 | 0.9868 | 1.3923
6115106000 | 0.1096 | 0.1547
6115298010 | 1.0965 | 1.5470
6115309030 | 0.7675 | 1.0829
6115956000 | 0.9868 | 1.3923
6115959000 | 0.9868 | 1.3923
6115966020 | 0.2193 | 0.3094
6115991420 | 0.2193 | 0.3094
6115991920 | 0.2193 | 0.3094
6115999000 | 0.1096 | 0.1547
6116101300 | 0.3463 | 0.4885
6116101720 | 0.8079 | 1.1399
6116104810 | 0.4444 | 0.6270
6116105510 | 0.6464 | 0.9119
6116107510 | 0.6464 | 0.9119
6116109500 | 0.1616 | 0.2280
6116920500 | 0.8079 | 1.1399
6116920800 | 0.8079 | 1.1399
6116926410 | 1.0388 | 1.4656
6116926420 | 1.0388 | 1.4656
6116926430 | 1.1542 | 1.6285
6116926440 | 1.0388 | 1.4656
6116927450 | 1.0388 | 1.4656
6116927460 | 1.1542 | 1.6285
6116927470 | 1.0388 | 1.4656
6116928800 | 1.0388 | 1.4656
6116929400 | 1.0388 | 1.4656
6116938800 | 0.1154 | 0.1628
6116939400 | 0.1154 | 0.1628
6116994800 | 0.1154 | 0.1628
6116995400 | 0.1154 | 0.1628
6116999510 | 0.4617 | 0.6514
6116999530 | 0.3463 | 0.4885
6117106010 | 0.9234 | 1.3028
6117106020 | 0.2308 | 0.3257
6117808500 | 0.9234 | 1.3028
6117808710 | 1.1542 | 1.6285
6117808770 | 0.1731 | 0.2443
6117809510 | 0.9234 | 1.3028
6117809540 | 0.3463 | 0.4885
6117809570 | 0.1731 | 0.2443
6117909003 | 1.1542 | 1.6285
6117909015 | 0.2308 | 0.3257
6117909020 | 1.1542 | 1.6285
6117909040 | 1.1542 | 1.6285
6117909060 | 1.1542 | 1.6285
6117909080 | 1.1542 | 1.6285
6201121000 | 0.8981 | 1.2671
6201122010 | 0.8482 | 1.1967
6201122020 | 0.8482 | 1.1967
6201122025 | 0.9979 | 1.4079
6201122035 | 0.9979 | 1.4079
6201122050 | 0.6486 | 0.9151
6201122060 | 0.6486 | 0.9151
6201134015 | 0.1996 | 0.2816
6201134020 | 0.1996 | 0.2816
6201134030 | 0.2495 | 0.3520
6201134040 | 0.2495 | 0.3520
6201199010 | 0.5613 | 0.7919
6201199030 | 0.3742 | 0.5280
6201199060 | 0.3742 | 0.5280
6201921000 | 0.8779 | 1.2386
6201921500 | 1.0974 | 1.5483
6201922005 | 0.9754 | 1.3763
6201922010 | 0.9754 | 1.3763
6201922021 | 1.2193 | 1.7203
6201922031 | 1.2193 | 1.7203
6201922041 | 1.2193 | 1.7203
6201922051 | 0.9754 | 1.3763
6201922061 | 0.9754 | 1.3763
6201931000 | 0.2926 | 0.4129
6201932010 | 0.2439 | 0.3441
6201932020 | 0.2439 | 0.3441
6201933511 | 0.2439 | 0.3441
6201933521 | 0.2439 | 0.3441
6201999010 | 0.5487 | 0.7741
6201999030 | 0.3658 | 0.5161
6201999060 | 0.2439 | 0.3441
6202121000 | 0.8879 | 1.2527
6202122010 | 1.0482 | 1.4789
6202122020 | 1.0482 | 1.4789
6202122025 | 1.2332 | 1.7399
6202122035 | 1.2332 | 1.7399
6202122050 | 0.8016 | 1.1309
6202122060 | 0.8016 | 1.1309
6202134005 | 0.2524 | 0.3561
6202134010 | 0.2524 | 0.3561
6202134020 | 0.3155 | 0.4451
6202134030 | 0.3155 | 0.4451
6202199010 | 0.5678 | 0.8012
6202199030 | 0.3786 | 0.5341
6202199060 | 0.2524 | 0.3561
6202921000 | 0.9865 | 1.3919
6202921500 | 0.9865 | 1.3919
6202922010 | 0.9865 | 1.3919
6202922020 | 0.9865 | 1.3919
6202922026 | 1.2332 | 1.7399
6202922031 | 1.2332 | 1.7399
6202922061 | 0.9865 | 1.3919
6202922071 | 0.9865 | 1.3919
6202931000 | 0.2960 | 0.4176
6202932010 | 0.2466 | 0.3480
6202932020 | 0.2466 | 0.3480
6202935011 | 0.2466 | 0.3480
6202935021 | 0.2466 | 0.3480
6202999011 | 0.5549 | 0.7829
6202999031 | 0.3700 | 0.5220
6202999061 | 0.2466 | 0.3480
6203122010 | 0.1233 | 0.1740
6203122020 | 0.1233 | 0.1740
6203191010 | 0.9865 | 1.3919
6203191020 | 0.9865 | 1.3919
6203191030 | 0.9865 | 1.3919
6203199010 | 0.5549 | 0.7829
6203199020 | 0.5549 | 0.7829
6203199030 | 0.5549 | 0.7829
6203199050 | 0.3700 | 0.5220
6203199080 | 0.2466 | 0.3480
6203221000 | 1.2332 | 1.7399
6203321000 | 0.6782 | 0.9569
6203322010 | 1.1715 | 1.6529
6203322020 | 1.1715 | 1.6529
6203322030 | 1.1715 | 1.6529
6203322040 | 1.1715 | 1.6529
6203322050 | 1.1715 | 1.6529
6203332010 | 0.1233 | 0.1740
6203332020 | 0.1233 | 0.1740
6203392010 | 0.1233 | 0.1740
6203392020 | 0.1233 | 0.1740
6203399010 | 0.5549 | 0.7829
6203399030 | 0.3700 | 0.5220
6203399060 | 0.2466 | 0.3480
6203421000 | 1.0616 | 1.4978
6203422005 | 0.7077 | 0.9985
6203422010 | 0.9436 | 1.3314
6203422025 | 0.9436 | 1.3314
6203422050 | 0.9436 | 1.3314
6203422090 | 0.9436 | 1.3314
6203424003 | 1.0616 | 1.4978
6203424006 | 1.1796 | 1.6642
6203424011 | 1.1796 | 1.6642
6203424016 | 0.9436 | 1.3314
6203424021 | 1.1796 | 1.6642
6203424026 | 1.1796 | 1.6642
6203424031 | 1.1796 | 1.6642
6203424036 | 1.1796 | 1.6642
6203424041 | 0.9436 | 1.3314
6203424046 | 0.9436 | 1.3314
6203424051 | 0.8752 | 1.2348
6203424056 | 0.8752 | 1.2348
6203424061 | 0.8752 | 1.2348
6203431000 | 0.1887 | 0.2663
6203431500 | 0.1180 | 0.1664
6203432005 | 0.1180 | 0.1664
6203432010 | 0.2359 | 0.3328
6203432025 | 0.2359 | 0.3328
6203432050 | 0.2359 | 0.3328
6203432090 | 0.2359 | 0.3328
6203432500 | 0.4128 | 0.5825
6203433510 | 0.0590 | 0.0832
6203433590 | 0.0590 | 0.0832
6203434010 | 0.1167 | 0.1646
6203434015 | 0.1167 | 0.1646
6203434020 | 0.1167 | 0.1646
6203434030 | 0.1167 | 0.1646
6203434035 | 0.1167 | 0.1646
6203434040 | 0.1167 | 0.1646
6203491005 | 0.1180 | 0.1664
6203491010 | 0.2359 | 0.3328
6203491025 | 0.2359 | 0.3328
6203491050 | 0.2359 | 0.3328
6203491090 | 0.2359 | 0.3328
6203491500 | 0.4128 | 0.5825
6203492015 | 0.2359 | 0.3328
6203492020 | 0.2359 | 0.3328
6203492030 | 0.1180 | 0.1664
6203492045 | 0.1180 | 0.1664
6203492050 | 0.1180 | 0.1664
6203492060 | 0.1180 | 0.1664
6203498020 | 0.5308 | 0.7489
6203498030 | 0.3539 | 0.4993
6203498045 | 0.2359 | 0.3328
6204110000 | 0.0617 | 0.0870
6204120010 | 0.9865 | 1.3919
6204120020 | 0.9865 | 1.3919
6204120030 | 0.9865 | 1.3919
6204120040 | 0.9865 | 1.3919
6204132010 | 0.1233 | 0.1740
6204132020 | 0.1233 | 0.1740
6204192000 | 0.1233 | 0.1740
6204198010 | 0.5549 | 0.7829
6204198020 | 0.5549 | 0.7829
6204198030 | 0.5549 | 0.7829
6204198040 | 0.5549 | 0.7829
6204198060 | 0.3083 | 0.4350
6204198090 | 0.2466 | 0.3480
6204221000 | 1.2332 | 1.7399
6204321000 | 0.6782 | 0.9569
6204322010 | 1.1715 | 1.6529
6204322020 | 1.1715 | 1.6529
6204322030 | 0.9865 | 1.3919
6204322040 | 0.9865 | 1.3919
6204398010 | 0.5549 | 0.7829
6204398030 | 0.3083 | 0.4350
6204412010 | 0.0603 | 0.0851
6204412020 | 0.0603 | 0.0851
6204421000 | 1.2058 | 1.7012
6204422000 | 0.6632 | 0.9357
6204423010 | 1.2058 | 1.7012
6204423020 | 1.2058 | 1.7012
6204423030 | 0.9043 | 1.2759
6204423040 | 0.9043 | 1.2759
6204423050 | 0.9043 | 1.2759
6204423060 | 0.9043 | 1.2759
6204431000 | 0.4823 | 0.6805
6204432000 | 0.0603 | 0.0851
6204442000 | 0.4316 | 0.6090
6204495010 | 0.5549 | 0.7829
6204495030 | 0.2466 | 0.3480
6204510010 | 0.0631 | 0.0890
6204510020 | 0.0631 | 0.0890
6204521000 | 1.2618 | 1.7803
6204522010 | 1.1988 | 1.6913
6204522020 | 1.1988 | 1.6913
6204522030 | 1.1988 | 1.6913
6204522040 | 1.1988 | 1.6913
6204522070 | 1.0095 | 1.4243
6204522080 | 1.0095 | 1.4243
6204531000 | 0.4416 | 0.6231
6204532010 | 0.0631 | 0.0890
6204532020 | 0.0631 | 0.0890
6204533010 | 0.2524 | 0.3561
6204533020 | 0.2524 | 0.3561
6204591000 | 0.4416 | 0.6231
6204594010 | 0.5678 | 0.8012
6204594030 | 0.2524 | 0.3561
6204594060 | 0.2524 | 0.3561
6204611010 | 0.0590 | 0.0832
6204611020 | 0.0590 | 0.0832
6204619010 | 0.0590 | 0.0832
6204619020 | 0.0590 | 0.0832
6204619030 | 0.0590 | 0.0832
6204619040 | 0.1180 | 0.1664
6204621000 | 0.8681 | 1.2249
6204622005 | 0.7077 | 0.9985
6204622010 | 0.9436 | 1.3314
6204622025 | 0.9436 | 1.3314
6204622050 | 0.9436 | 1.3314
6204623000 | 1.1796 | 1.6642
6204624003 | 1.0616 | 1.4978
6204624006 | 1.1796 | 1.6642
6204624011 | 1.1796 | 1.6642
6204624021 | 0.9436 | 1.3314
6204624026 | 1.1796 | 1.6642
6204624031 | 1.1796 | 1.6642
6204624036 | 1.1796 | 1.6642
6204624041 | 1.1796 | 1.6642
6204624046 | 0.9436 | 1.3314
6204624051 | 0.9436 | 1.3314
6204624056 | 0.9335 | 1.3171
6204624061 | 0.9335 | 1.3171
6204624066 | 0.9335 | 1.3171
6204631000 | 0.2019 | 0.2849
6204631200 | 0.1180 | 0.1664
6204631505 | 0.1180 | 0.1664
6204631510 | 0.2359 | 0.3328
6204631525 | 0.2359 | 0.3328
6204631550 | 0.2359 | 0.3328
6204632000 | 0.4718 | 0.6657
6204632510 | 0.0590 | 0.0832
6204632520 | 0.0590 | 0.0832
6204633010 | 0.0603 | 0.0851
6204633090 | 0.0603 | 0.0851
6204633510 | 0.2412 | 0.3402
6204633525 | 0.2412 | 0.3402
6204633530 | 0.2412 | 0.3402
6204633532 | 0.2309 | 0.3258
6204633535 | 0.2309 | 0.3258
6204633540 | 0.2309 | 0.3258
6204691005 | 0.1180 | 0.1664
6204691010 | 0.2359 | 0.3328
6204691025 | 0.2359 | 0.3328
6204691050 | 0.2359 | 0.3328
6204692010 | 0.0590 | 0.0832
6204692020 | 0.0590 | 0.0832
6204692030 | 0.0590 | 0.0832
6204692510 | 0.2359 | 0.3328
6204692520 | 0.2359 | 0.3328
6204692530 | 0.2359 | 0.3328
6204692540 | 0.2309 | 0.3258
6204692550 | 0.2309 | 0.3258
6204692560 | 0.2309 | 0.3258
6204696010 | 0.5308 | 0.7489
6204696030 | 0.2359 | 0.3328
6204696070 | 0.3539 | 0.4993
6204699010 | 0.5308 | 0.7489
6204699030 | 0.2359 | 0.3328
6204699044 | 0.2359 | 0.3328
6204699046 | 0.2359 | 0.3328
6204699050 | 0.3539 | 0.4993
6205201000 | 1.1796 | 1.6642
6205202003 | 0.9436 | 1.3314
6205202016 | 0.9436 | 1.3314
6205202021 | 0.9436 | 1.3314
6205202026 | 0.9436 | 1.3314
6205202031 | 0.9436 | 1.3314
6205202036 | 1.0616 | 1.4978
6205202041 | 1.0616 | 1.4978
6205202044 | 1.0616 | 1.4978
6205202047 | 0.9436 | 1.3314
6205202051 | 0.9436 | 1.3314
6205202056 | 0.9436 | 1.3314
6205202061 | 0.9436 | 1.3314
6205202066 | 0.9436 | 1.3314
6205202071 | 0.9436 | 1.3314
6205202076 | 0.9436 | 1.3314
6205301000 | 0.4128 | 0.5825
6205302010 | 0.2949 | 0.4161
6205302020 | 0.2949 | 0.4161
6205302030 | 0.2949 | 0.4161
6205302040 | 0.2949 | 0.4161
6205302050 | 0.2949 | 0.4161
6205302055 | 0.2949 | 0.4161
6205302060 | 0.2949 | 0.4161
6205302070 | 0.2949 | 0.4161
6205302075 | 0.2949 | 0.4161
6205302080 | 0.2949 | 0.4161
6205900710 | 0.1180 | 0.1664
6205900720 | 0.1180 | 0.1664
6205901000 | 0.2359 | 0.3328
6205903010 | 0.5308 | 0.7489
6205903030 | 0.2359 | 0.3328
6205903050 | 0.1769 | 0.2496
6205904010 | 0.5308 | 0.7489
6205904030 | 0.2359 | 0.3328
6205904040 | 0.2359 | 0.3328
6206100010 | 0.5308 | 0.7489
6206100030 | 0.2359 | 0.3328
6206100040 | 0.1180 | 0.1664
6206100050 | 0.2359 | 0.3328
6206203010 | 0.0590 | 0.0832
6206203020 | 0.0590 | 0.0832
6206301000 | 1.1796 | 1.6642
6206302000 | 0.6488 | 0.9153
6206303003 | 0.9436 | 1.3314
6206303011 | 0.9436 | 1.3314
6206303021 | 0.9436 | 1.3314
6206303031 | 0.9436 | 1.3314
6206303041 | 0.9436 | 1.3314
6206303051 | 0.9436 | 1.3314
6206303061 | 0.9436 | 1.3314
6206401000 | 0.4128 | 0.5825
6206403010 | 0.2949 | 0.4161
6206403020 | 0.2949 | 0.4161
6206403025 | 0.2949 | 0.4161
6206403030 | 0.2949 | 0.4161
6206403040 | 0.2949 | 0.4161
6206403050 | 0.2949 | 0.4161
6206900010 | 0.5308 | 0.7489
6206900030 | 0.2359 | 0.3328
6206900040 | 0.1769 | 0.2496
6207110000 | 1.0281 | 1.4505
6207199010 | 0.3427 | 0.4835
6207199030 | 0.4569 | 0.6447
6207210010 | 1.0502 | 1.4817
6207210020 | 1.0502 | 1.4817
6207210030 | 1.0502 | 1.4817
6207210040 | 1.0502 | 1.4817
6207220000 | 0.3501 | 0.4939
6207291000 | 0.1167 | 0.1646
6207299030 | 0.1167 | 0.1646
6207911000 | 1.0852 | 1.5311
6207913010 | 1.0852 | 1.5311
6207913020 | 1.0852 | 1.5311
6207997520 | 0.2412 | 0.3402
6207998510 | 0.2412 | 0.3402
6207998520 | 0.2412 | 0.3402
6208110000 | 0.2412 | 0.3402
6208192000 | 1.0852 | 1.5311
6208195000 | 0.1206 | 0.1701
6208199000 | 0.2412 | 0.3402
6208210010 | 1.0026 | 1.4146
6208210020 | 1.0026 | 1.4146
6208210030 | 1.0026 | 1.4146
6208220000 | 0.1180 | 0.1664
6208299030 | 0.2359 | 0.3328
6208911010 | 1.0852 | 1.5311
6208911020 | 1.0852 | 1.5311
6208913010 | 1.0852 | 1.5311
6208913020 | 1.0852 | 1.5311
6208920010 | 0.1206 | 0.1701
6208920020 | 0.1206 | 0.1701
6208920030 | 0.1206 | 0.1701
6208920040 | 0.1206 | 0.1701
6208992010 | 0.0603 | 0.0851
6208992020 | 0.0603 | 0.0851
6208995010 | 0.2412 | 0.3402
6208995020 | 0.2412 | 0.3402
6208998010 | 0.2412 | 0.3402
6208998020 | 0.2412 | 0.3402
6209201000 | 1.0967 | 1.5474
6209202000 | 1.0390 | 1.4659
6209203000 | 0.9236 | 1.3031
6209205030 | 0.9236 | 1.3031
6209205035 | 0.9236 | 1.3031
6209205045 | 0.9236 | 1.3031
6209205050 | 0.9236 | 1.3031
6209301000 | 0.2917 | 0.4116
6209302000 | 0.2917 | 0.4116
6209303010 | 0.2334 | 0.3293
6209303020 | 0.2334 | 0.3293
6209303030 | 0.2334 | 0.3293
6209303040 | 0.2334 | 0.3293
6209900500 | 0.1154 | 0.1629
6209901000 | 0.2917 | 0.4116
6209902000 | 0.2917 | 0.4116
6209903010 | 0.2917 | 0.4116
6209903015 | 0.2917 | 0.4116
6209903020 | 0.2917 | 0.4116
6209903030 | 0.2917 | 0.4116
6209903040 | 0.2917 | 0.4116
6210109010 | 0.2170 | 0.3062
6210109040 | 0.2170 | 0.3062
6210203000 | 0.0362 | 0.0510
6210205000 | 0.0844 | 0.1191
6210207000 | 0.1809 | 0.2552
6210303000 | 0.0362 | 0.0510
6210305000 | 0.0844 | 0.1191
6210307000 | 0.0362 | 0.0510
6210309020 | 0.4220 | 0.5954
6210403000 | 0.0370 | 0.0522
6210405020 | 0.4316 | 0.6090
6210405031 | 0.0863 | 0.1218
6210405039 | 0.0863 | 0.1218
6210405040 | 0.4316 | 0.6090
6210405050 | 0.4316 | 0.6090
6210407000 | 0.1110 | 0.1566
6210409025 | 0.1110 | 0.1566
6210409033 | 0.1110 | 0.1566
6210409045 | 0.1110 | 0.1566
6210409060 | 0.1110 | 0.1566
6210503000 | 0.0370 | 0.0522
6210505020 | 0.0863 | 0.1218
6210505031 | 0.0863 | 0.1218
6210505039 | 0.0863 | 0.1218
6210505040 | 0.0863 | 0.1218
6210505055 | 0.0863 | 0.1218
6210507000 | 0.4316 | 0.6090
6210509050 | 0.1480 | 0.2088
6210509060 | 0.1480 | 0.2088
6210509070 | 0.1480 | 0.2088
6210509090 | 0.1480 | 0.2088
6211111010 | 0.1206 | 0.1701
6211111020 | 0.1206 | 0.1701
6211118010 | 1.0852 | 1.5311
6211118020 | 1.0852 | 1.5311
6211118040 | 0.2412 | 0.3402
6211121010 | 0.0603 | 0.0851
6211121020 | 0.0603 | 0.0851
6211128010 | 1.0852 | 1.5311
6211128020 | 1.0852 | 1.5311
6211128030 | 0.6029 | 0.8506
6211200410 | 0.7717 | 1.0888
6211200420 | 0.0965 | 0.1361
6211200430 | 0.7717 | 1.0888
6211200440 | 0.0965 | 0.1361
6211200810 | 0.3858 | 0.5444
6211200820 | 0.3858 | 0.5444
6211201510 | 0.7615 | 1.0744
6211201515 | 0.2343 | 0.3306
6211201520 | 0.6443 | 0.9091
6211201525 | 0.2929 | 0.4132
6211201530 | 0.7615 | 1.0744
6211201535 | 0.3515 | 0.4959
6211201540 | 0.7615 | 1.0744
6211201545 | 0.2929 | 0.4132
6211201550 | 0.7615 | 1.0744
6211201555 | 0.4100 | 0.5785
6211201560 | 0.7615 | 1.0744
6211201565 | 0.2343 | 0.3306
6211202400 | 0.1233 | 0.1740
6211202810 | 0.8016 | 1.1309
6211202820 | 0.2466 | 0.3480
6211202830 | 0.3083 | 0.4350
6211203400 | 0.1233 | 0.1740
6211203810 | 0.8016 | 1.1309
6211203820 | 0.2466 | 0.3480
6211203830 | 0.3083 | 0.4350
6211204400 | 0.1233 | 0.1740
6211204815 | 0.8016 | 1.1309
6211204835 | 0.2466 | 0.3480
6211204860 | 0.3083 | 0.4350
6211205400 | 0.1233 | 0.1740
6211205810 | 0.8016 | 1.1309
6211205820 | 0.2466 | 0.3480
6211205830 | 0.3083 | 0.4350
6211206400 | 0.1233 | 0.1740
6211206810 | 0.8016 | 1.1309
6211206820 | 0.2466 | 0.3480
6211206830 | 0.3083 | 0.4350
6211207400 | 0.1233 | 0.1740
6211207810 | 0.9249 | 1.3049
6211207820 | 0.2466 | 0.3480
6211207830 | 0.3083 | 0.4350
6211320003 | 0.6412 | 0.9047
6211320007 | 0.8016 | 1.1309
6211320010 | 0.9865 | 1.3919
6211320015 | 0.9865 | 1.3919
6211320025 | 0.9865 | 1.3919
6211320030 | 0.9249 | 1.3049
6211320040 | 0.9249 | 1.3049
6211320050 | 0.9249 | 1.3049
6211320060 | 0.9249 | 1.3049
6211320070 | 0.9249 | 1.3049
6211320075 | 0.9249 | 1.3049
6211320081 | 0.9249 | 1.3049
6211330003 | 0.0987 | 0.1392
6211330007 | 0.1233 | 0.1740
6211330010 | 0.3083 | 0.4350
6211330015 | 0.3083 | 0.4350
6211330017 | 0.3083 | 0.4350
6211330025 | 0.3700 | 0.5220
6211330030 | 0.3700 | 0.5220
6211330035 | 0.3700 | 0.5220
6211330040 | 0.3700 | 0.5220
6211330054 | 0.3700 | 0.5220
6211330058 | 0.3700 | 0.5220
6211330061 | 0.3700 | 0.5220
6211390510 | 0.1233 | 0.1740
6211390520 | 0.1233 | 0.1740
6211390530 | 0.1233 | 0.1740
6211390540 | 0.1233 | 0.1740
6211390545 | 0.1233 | 0.1740
6211390551 | 0.1233 | 0.1740
6211399010 | 0.2466 | 0.3480
6211399020 | 0.2466 | 0.3480
6211399030 | 0.2466 | 0.3480
6211399040 | 0.2466 | 0.3480
6211399050 | 0.2466 | 0.3480
6211399060 | 0.2466 | 0.3480
6211399070 | 0.2466 | 0.3480
6211399090 | 0.2466 | 0.3480
6211410040 | 0.0617 | 0.0870
6211420003 | 0.6412 | 0.9047
6211420007 | 0.8016 | 1.1309
6211420010 | 0.9865 | 1.3919
6211420020 | 0.9865 | 1.3919
6211420025 | 1.1099 | 1.5659
6211420030 | 0.8632 | 1.2179
6211420040 | 0.9865 | 1.3919
6211420054 | 1.1099 | 1.5659
6211420056 | 1.1099 | 1.5659
6211420060 | 0.9865 | 1.3919
6211420070 | 1.1099 | 1.5659
6211420075 | 1.1099 | 1.5659
6211420081 | 1.1099 | 1.5659
6211430003 | 0.0987 | 0.1392
6211430007 | 0.1233 | 0.1740
6211430010 | 0.2466 | 0.3480
6211430020 | 0.2466 | 0.3480
6211430030 | 0.2466 | 0.3480
6211430040 | 0.2466 | 0.3480
6211430050 | 0.2466 | 0.3480
6211430060 | 0.2466 | 0.3480
6211430064 | 0.3083 | 0.4350
6211430066 | 0.2466 | 0.3480
6211430074 | 0.3083 | 0.4350
6211430076 | 0.3700 | 0.5220
6211430078 | 0.3700 | 0.5220
6211430091 | 0.2466 | 0.3480
6211499010 | 0.2466 | 0.3480
6211499020 | 0.2466 | 0.3480
6211499030 | 0.2466 | 0.3480
6211499040 | 0.2466 | 0.3480
6211499050 | 0.2466 | 0.3480
6211499060 | 0.2466 | 0.3480
6211499070 | 0.2466 | 0.3480
6211499080 | 0.2466 | 0.3480
6211499090 | 0.2466 | 0.3480
6212105010 | 0.9138 | 1.2893
6212105020 | 0.2285 | 0.3223
6212105030 | 0.2285 | 0.3223
6212109010 | 0.9138 | 1.2893
6212109020 | 0.2285 | 0.3223
6212109040 | 0.2285 | 0.3223
6212200010 | 0.6854 | 0.9670
6212200020 | 0.2856 | 0.4029
6212200030 | 0.1142 | 0.1612
6212300010 | 0.6854 | 0.9670
6212300020 | 0.2856 | 0.4029
6212300030 | 0.1142 | 0.1612
6212900010 | 0.1828 | 0.2579
6212900020 | 0.1828 | 0.2579
6212900030 | 0.1828 | 0.2579
6212900050 | 0.0914 | 0.1289
6212900090 | 0.4112 | 0.5802
6213201000 | 1.1187 | 1.5784
6213202000 | 1.0069 | 1.4206
6213900700 | 0.4475 | 0.6314
6213901000 | 0.4475 | 0.6314
6213902000 | 0.3356 | 0.4735
6214300000 | 0.1142 | 0.1612
6214400000 | 0.1142 | 0.1612
6214900010 | 0.8567 | 1.2088
6214900090 | 0.2285 | 0.3223
6215100025 | 0.1142 | 0.1612
6215200000 | 0.1142 | 0.1612
6215900015 | 1.0281 | 1.4505
6216000800 | 0.0685 | 0.0967
6216001300 | 0.3427 | 0.4835
6216001720 | 0.6397 | 0.9025
6216001730 | 0.1599 | 0.2256
6216001900 | 0.3427 | 0.4835
6216002110 | 0.5780 | 0.8155
6216002120 | 0.2477 | 0.3495
6216002410 | 0.6605 | 0.9320
6216002425 | 0.1651 | 0.2330
6216002600 | 0.1651 | 0.2330
6216002910 | 0.6605 | 0.9320
6216002925 | 0.1651 | 0.2330
6216003100 | 0.1651 | 0.2330
6216003300 | 0.5898 | 0.8321
6216003500 | 0.5898 | 0.8321
6216003800 | 1.1796 | 1.6642
6216004100 | 1.1796 | 1.6642
6217109510 | 0.9646 | 1.3610
6217109520 | 0.1809 | 0.2552
6217109530 | 0.2412 | 0.3402
6217909003 | 0.9646 | 1.3610
6217909005 | 0.1809 | 0.2552
6217909010 | 0.2412 | 0.3402
6217909025 | 0.9646 | 1.3610
6217909030 | 0.1809 | 0.2552
6217909035 | 0.2412 | 0.3402
6217909050 | 0.9646 | 1.3610
6217909055 | 0.1809 | 0.2552
6217909060 | 0.2412 | 0.3402
6217909075 | 0.9646 | 1.3610
6217909080 | 0.1809 | 0.2552
6217909085 | 0.2412 | 0.3402
6301300010 | 0.8305 | 1.1718
6301300020 | 0.8305 | 1.1718
6301900030 | 0.2215 | 0.3125
6302100005 | 1.1073 | 1.5623
6302100008 | 1.1073 | 1.5623
6302100015 | 1.1073 | 1.5623
6302213010 | 1.1073 | 1.5623
6302213020 | 1.1073 | 1.5623
6302213030 | 1.1073 | 1.5623
6302213040 | 1.1073 | 1.5623
6302213050 | 1.1073 | 1.5623
6302215010 | 0.7751 | 1.0936
6302215020 | 0.7751 | 1.0936
6302215030 | 0.7751 | 1.0936
6302215040 | 0.7751 | 1.0936
6302215050 | 0.7751 | 1.0936
6302217010 | 1.1073 | 1.5623
6302217020 | 1.1073 | 1.5623
6302217030 | 1.1073 | 1.5623
6302217040 | 1.1073 | 1.5623
6302217050 | 1.1073 | 1.5623
6302219010 | 0.7751 | 1.0936
6302219020 | 0.7751 | 1.0936
6302219030 | 0.7751 | 1.0936
6302219040 | 0.7751 | 1.0936
6302219050 | 0.7751 | 1.0936
6302221010 | 0.5537 | 0.7812
6302221020 | 0.3876 | 0.5468
6302221030 | 0.5537 | 0.7812
6302221040 | 0.3876 | 0.5468
6302221050 | 0.3876 | 0.5468
6302221060 | 0.3876 | 0.5468
6302222010 | 0.3876 | 0.5468
6302222020 | 0.3876 | 0.5468
6302222030 | 0.3876 | 0.5468
6302290020 | 0.2215 | 0.3125
6302313010 | 1.1073 | 1.5623
6302313020 | 1.1073 | 1.5623
6302313030 | 1.1073 | 1.5623
6302313040 | 1.1073 | 1.5623
6302313050 | 1.1073 | 1.5623
6302315010 | 0.7751 | 1.0936
6302315020 | 0.7751 | 1.0936
6302315030 | 0.7751 | 1.0936
6302315040 | 0.7751 | 1.0936
6302315050 | 0.7751 | 1.0936
6302317010 | 1.1073 | 1.5623
6302317020 | 1.1073 | 1.5623
6302317030 | 1.1073 | 1.5623
6302317040 | 1.1073 | 1.5623
6302317050 | 1.1073 | 1.5623
6302319010 | 0.7751 | 1.0936
6302319020 | 0.7751 | 1.0936
6302319030 | 0.7751 | 1.0936
6302319040 | 0.7751 | 1.0936
6302319050 | 0.7751 | 1.0936
6302321010 | 0.5537 | 0.7812
6302321020 | 0.3876 | 0.5468
6302321030 | 0.5537 | 0.7812
6302321040 | 0.3876 | 0.5468
6302321050 | 0.3876 | 0.5468
6302321060 | 0.3876 | 0.5468
6302322010 | 0.5537 | 0.7812
6302322020 | 0.3876 | 0.5468
6302322030 | 0.5537 | 0.7812
6302322040 | 0.3876 | 0.5468
6302322050 | 0.3876 | 0.5468
6302322060 | 0.3876 | 0.5468
6302390030 | 0.2215 | 0.3125
6302402010 | 0.9412 | 1.3280
6302511000 | 0.5537 | 0.7812
6302512000 | 0.8305 | 1.1718
6302513000 | 0.5537 | 0.7812
6302514000 | 0.7751 | 1.0936
6302593020 | 0.5537 | 0.7812
6302600010 | 1.1073 | 1.5623
6302600020 | 0.9966 | 1.4061
6302600030 | 0.9966 | 1.4061
6302910005 | 0.9966 | 1.4061
6302910015 | 1.1073 | 1.5623
6302910025 | 0.9966 | 1.4061
6302910035 | 0.9966 | 1.4061
6302910045 | 0.9966 | 1.4061
6302910050 | 0.9966 | 1.4061
6302910060 | 0.9966 | 1.4061
6302931000 | 0.4429 | 0.6249
6302932000 | 0.4429 | 0.6249
6302992000 | 0.2215 | 0.3125
6303191100 | 0.8859 | 1.2499
6303910010 | 0.6090 | 0.8593
6303910020 | 0.6090 | 0.8593
6303921000 | 0.2768 | 0.3906
6303922010 | 0.2768 | 0.3906
6303922030 | 0.2768 | 0.3906
6303922050 | 0.2768 | 0.3906
6303990010 | 0.2768 | 0.3906
6304111000 | 0.9966 | 1.4061
6304113000 | 0.1107 | 0.1562
6304190500 | 0.9966 | 1.4061
6304191000 | 1.1073 | 1.5623
6304191500 | 0.3876 | 0.5468
6304192000 | 0.3876 | 0.5468
6304193060 | 0.2215 | 0.3125
6304910020 | 0.8859 | 1.2499
6304910070 | 0.2215 | 0.3125
6304920000 | 0.8859 | 1.2499
6304996040 | 0.2215 | 0.3125
6507000000 | 0.3986 | 0.5624
9404901000 | 0.2104 | 0.2968
9404908020 | 0.9966 | 1.4061
9404908040 | 0.9966 | 1.4061
9404908505 | 0.6644 | 0.9374
9404908536 | 0.0997 | 0.1406
9404909505 | 0.6644 | 0.9374
9404909570 | 0.2658 | 0.3750

* * * * *

Authority: 7 U.S.C. 2101-2118.

Dated: June 6, 2012.
Ruihong Guo,
Associate Administrator, Agricultural Marketing Service.

[FR Doc. 2012-14184 Filed 6-11-12; 8:45 am]

BILLING CODE 3410-02-P